DEPARTMENT OF LABOR

Veterans' Employment and Training Service

HIRE Vets Medallion Program—Announcement of HIRE Vets Medallion Award Recipients

AGENCY: Veterans' Employment and Training Service (VETS), Department of Labor.

ACTION: Notice.

SUMMARY: In a ceremony announcing the recipients of the 2021 HIRE Vets Medallion Awards, the Department of Labor (Department) recognized a select group of veteran-ready employers for excellence in recruiting, employing, and retaining America's veterans. The employers honored by the Department on November 10, 2021, include small businesses, nonprofit organizations, and national corporations. Recipients receive an award certificate along with a digital image of the medallion for their use, including as part of an advertisement, solicitation, business activity, or product. The awards are conferred in six categories, based on the size of the employer (small, medium, or large) and what level of criteria their application met (platinum or gold). This action announces the recipients of the 2021, 2020 and 2019 HIRE Vets Medallion Awards.

FOR FURTHER INFORMATION CONTACT: Randall Smith, Veterans' Employment and Training Service, U.S. Department of Labor, Room S-1325, 200 Constitution Avenue NW, Washington, DC 20210, email: HIREVets@dol.gov, telephone: (202) 693-4745 or TTY (877) 889-5627 (these are not toll-free numbers). For press inquiries, contact Bennett Gamble, Office of Public Affairs, U.S. Department of Labor, 200 Constitution Avenue NW, Room S-1032, Washington, DC 20210, email: gamble.bennett@dol.gov, telephone: (202) 693-6587 (this is not a toll-free number).

SUPPLEMENTARY INFORMATION: The HIRE Vets Medallion Award is authorized by the Honoring Investments in Recruiting and Employing American Military Veterans Act of 2017 (HIRE Vets Act), enacted on May 5, 2017, as Division O of the Consolidated Appropriations Act, 2017, Public Law 115-31, 131 Stat. 838. The Department codified the HIRE Vets Act's requirements through regulations found at 20 CFR part 1011 ¹ and an information collection containing the application forms.² This notice is required by section 2(b)(4)(B) of the HIRE Vets Act and the regulation at 20 CFR 1011.200(d)(2).

¹ For the final rule adopting these regulations, see 82 FR 52186 (Nov. 13, 2017).

² For the information collection and related documents, see OMB Control No. 1293-0015.

VETS received 870 applications for the HIRE Vets Medallion Award in 2021. Among the 870 applications, 849 applications were approved for award, with 15 applications denied and 6 applications withdrawn by the applicant. Of the 849 applications approved for award, the breakdown by award type is as follows: 301 small gold (SG), 159 small platinum (SP), 175 medium gold (MG), 126 medium platinum (MP), 70 large gold (LG), and 18 large platinum (LP).

The following list shows the 849 recipients for 2021 in alphabetical order by employer name, along with their doing business as (DBA) name (as applicable), city, state or territory, and award type.³ For more information about the program, including award criteria, key dates, and applicant resources, visit https://www.hirevets.gov.

³ Employer Name and DBA edited as appropriate; VETS is not responsible for any typographical errors.

Employer name | DBA | City | State/ terr. | Award type
1-800 Water Damage of Virginia Beach | ARC Global Corp | Virginia Beach | VA | SG
2rbConsulting, Inc |  | Bothell | WA | SG
8-koi, Inc | 8-koi | Merritt Island | FL | SG
A&M Transport | A&M Transport, LLC | Glendale | OR | MP
A2 Supply Chain Services LLC | Restoration 1 of Western Wayne County | Ann Arbor | MI | SP
Abile Group, Inc |  | Harwood | MD | MP
Actualized Business Solutions, Inc | ABSI Aerospace & Defense | California | MD | SG
ACW ELECTRIC, LLC |  | Huntsville | AL | SG
Adaptive Construction Solutions, Inc |  | Houston | TX | SP
Advance Transit, Inc |  | Wilder | VT | SP
Advanced Technology International |  | Summerville | SC | MP
Advanced Technology Leaders, Inc | Advanced Technology Leaders, Inc | Martinez | GA | MP
Aetos Systems |  | Huntsville | AL | MG
AGS LLC |  | Las Vegas | NV | MP
AHSC, Inc | Mister Sparky and Benjamin Franklin Plumbing | Conway | SC | SG
Air Combat Effectiveness Consulting Group, LLC | ACE Consulting Group, LLC | Lexington Park | MD | MG
Air Liquide USA LLC |  | Houston | TX | LG
Air Quality Solutions Heating & Cooling |  | Grove City | OH | SP
Akira Technologies, Inc |  | Washington | DC | MG
Alaska Joint Electrical Apprenticeship and Training Trust |  | Anchorage | AK | MG
Albert R. Renteria Corporation (aka The ARRC) |  | Temecula | CA | SG
Aldevra LLC | Aldevra | Kalamazoo | MI | SP
Alion Science and Technology, Inc | Alion | McLean | VA | LG
All In Solutions, LLC |  | Fredericksburg | VA | MP
ALL STAR ACADEMY CAREERS INNOVATION & TECHNICAL COLLEGE | ALL STAR ACADEMY PROFESSIONAL CAREERS | Burnsville | MN | SG
ALLO Communications | ALLO Communications | Imperial | NE | LG
ALLY Construction Services, LLC | ALLY Construction Services | Bensalem | PA | SP
AM GENERAL LLC | AM GENERAL LLC | South Bend | IN | LG
Amazing Construction & Extras, LLC | Amazing Construction & Extras, LLC | Bulverde | TX | SG
America's Warrior Partnership, Inc |  | Augusta | GA | SP
American Addiction Centers Inc |  | Brentwood | TN | MG
American Business Capital |  | Kennesaw | GA | SG
American Forces Security Inc | Military Veterans Security | Bishop | TX | SG
American Protection Professionals LLC |  | Washington | DC | SG
American States Utility Services, Inc | ASUS | San Dimas | CA | MP
AMERICAN SYSTEMS |  | Chantilly | VA | LG
American Veteran Solutions, Inc |  | Las Vegas | NV | SP
American Zinc Products LLC |  | Mooresboro | NC | MG
AmeriVet Securities, Inc |  | New York | NY | SP
Ametrine Inc |  | Round Rock | TX | SG
ANALYGENCE, Inc |  | Columbia | MD | SG
Analytical Engineering, Inc |  | Columbus | IN | SP
ANEW Energy Corporation | ANEW Energy Corporation | Glenwood Springs | CO | SG
Ankobia Group LLC |  | South Fulton | GA | SG
ANSER |  | Falls Church | VA | MP
Anthony Catalfamo Agency LLC | Catalfamo Family Insurance Agency LLC | Glenville | NY | SP
AOC Solutions, Inc |  | Fairfax | VA | SG
Apache Industrial Services | Apache Industrial Services | Houston | TX | LG
Apogee Solutions, Inc | Apogee Solutions | Chesapeake | VA | SG
Aptive Resources |  | Alexandria | VA | MP
Arena Technologies |  | Chantilly | VA | SP
Armcorp Construction, Inc |  | Celina | OH | MG
ARServices Limited |  | Alexandria | VA | MP
Artemis Electronics, LLC |  | Prospect | KY | SG
Ascension Global Solutions, LLC |  | North Billerica | MA | SG
ASJ IT Services, LLC | ASJ Solutions | Chesapeake | VA | SG
Assertic LLC |  | Chicago | IL | SG
Assertive Professionals |  | McLean | VA | SP
Assured Consulting Solutions, LLC |  | Reston | VA | MP
Assured Information Security |  | Rome | NY | MG
Atec, Inc |  | Stafford | TX | MG
ATECH, Inc |  | Nashville | TN | SG
Atlas Sand Company, LLC | Atlas Sand | Austin | TX | MP
Atlas Technologies, Inc |  | North Charleston | SC | MG
ATS ESOP Holdings, Inc | Acclaim Technical Services, LLC | Reston | VA | MG
Attain Technology Inc |  | Providence | RI | SG
Attollo LLC | Attollo LLC | Cumberland | RI | SG
AutoBase Inc |  | Amityville | NY | MP
Aviation Institute of Maintenance | Aviation Institute of Maintenance | Norfolk | VA | SP
Aviation Safety Resources Inc |  | Nicholasville | KY | SG
AVIVV, LLC |  | San Diego | CA | SP
Azimuth Corporation |  | Beavercreek | OH | MP
Barnett Engineering & Signaling Laboratories LLC | BESL | Colorado Springs | CO | SG
Battle Tested Security LLC |  | Aberdeen | MD | SP
Battlespace, Inc |  | Las Vegas | NV | MP
BC Medical | BC Medical | North Highlands | CA | SG
Bell Textron Inc |  | Fort Worth | TX | LG
Bentley Builders |  | Warwick | RI | MG
Betis Group, Inc |  | McLean | VA | SP
Bevilacqua Research Corporation |  | Huntsville | AL | MP
BGIS Global Integrated Solutions US LLC |  | Seattle | WA | LG
Big Man Movers |  | Winter Park | FL | SG
BigBear.ai | BigBear.ai | Columbia | MD | LG
Black Hills Service Company LLC | Black Hills Energy | Rapid City | SD | LP
Black Knight, Inc |  | Jacksonville | FL | LG
Blake Willson Group, LLC | Blake Willson Group | Arlington | VA | SG
Blessed | 1B7 | Escondido | CA | SG
Blue Light LLC |  | Fayetteville | NC | SG
BlueHalo, LLC |  | Huntsville | AL | MP
BluePath Labs LLC |  | Washington | DC | SP
Bluestaq LLC |  | Colorado Springs | CO | SP
Boingo Wireless, Inc |  | Los Angeles | CA | MG
Booz Allen Hamilton |  | McLean | VA | LG
Boston Government Services, LLC |  | Lenoir City | TN | MG
Boy's Electric | Service Today! | South St. Paul | MN | SG
Boy's Mechanical | Service Today! | South St. Paul | MN | SG
Boyer Commercial Construction, Inc |  | Columbia | SC | SP
BP Aero | BP Aerospace, BP Aero Engine Services, BP Aero Services | Irving | TX | MG
Bradley-Morris Holdings, LLC | Bradley-Morris/RecruitMilitary | Chesapeake | VA | MG
BrainTrust Holdings, LLC | BrainTrust | Annapolis Junction | MD | MG
Brightstar Innovations Group, LLC | Brightstar Innovations Group, LLC | Arlington | VA | SG
Brinton Electric Co |  | Raytown | MO | SG
Brooks Construction Company, Inc |  | Fort Wayne | IN | MG
BTL Technologies, Inc |  | San Antonio | TX | SG
Bullet Rental & Sales, Inc |  | Klamath Falls | OR | SG
Burkmerica Custom Design |  | Belleville | WV | SP
C&D Industrial Maintenance |  | Bradenton | FL | SP
C2C LLC |  | Chesterfield | MO | SP
CACI International Inc |  | Arlington | VA | LG
Caddell Construction Co. (DE), LLC |  | Montgomery | AL | MG
CAE USA INC |  | Tampa | FL | LG
CANA LLC | CANA Advisors LLC | Gainesville | VA | SP
Canvas Inc |  | Huntsville | AL | MG
Capco, LLC |  | Grand Junction | CO | MG
Career Learning & Employment Center for Veterans with Disabilities, Inc | Operation: Job Ready Veterans (OJRV) | Indianapolis | IN | SP
Careersystems Development Corporation | Penobscot Job Corps Center | Bangor | ME | SG
Carolina Farm Credit, ACA |  | Statesville | NC | MG
Cascade Drilling, LP | Cascade Environmental | Bothell | WA | LG
Cassidy Consulting Group, LLC | C2G | Hertford | NC | SG
CAVU Consulting LLC | CAVU Construction | Virginia Beach | VA | SP
Caylor Equipment Services, LLC |  | Jupiter | FL | SP
Cayuse Holdings, LLC |  | Pendleton | OR | MP
CB Design Group |  | Alexandria | VA | SP
CCL USA, Inc |  | Jessup | MD | SG
Central Ohio Transit Authority |  | Columbus | OH | LG
Charter Trading Corporation |  | Clear Lake Shores | TX | SG
Choisys Technology |  | Ashburn | VA | SP
Cincinnati Incorporated |  | Harrison | OH | MG
Cintel Inc | Cintel | Huntsville | AL | SG
Circle Computer Resources | Circle Computer Resources | Cedar Rapids | IA | MP
Circuit Media LLC |  | Denver | CO | SP
Citrine Informatics | Citrine Informatics, Inc | Redwood City | CA | MG
City of Alpharetta, Georgia | City of Alpharetta | Alpharetta | GA | MG
City of Cape Canaveral |  | Cape Canaveral | FL | MG
City of Norfolk |  | Norfolk | VA | LG
City of St. Charles | City of St Charles | St. Charles | IL | MG
City of Tigard |  | Tigard | OR | MG
City of Toledo |  | Toledo | OH | LG
City of Treasure Island |  | Treasure Island | FL | MG
CJLP LLC | Restoration 1 of Toledo | Holland | OH | SG
Clear Path for Veterans New England |  | Devens | MA | SP
Client First Technologies, LLC |  | Washington | DC | SG
CLIENT/SERVER SOFTWARE SOLUTIONS INC DBA CONSTELLATION WEST | Constellation West | Fairfax | VA | MP
CMS Technology, Inc | Prevenio | Bridgewater | NJ | SG
Coalfire Systems, Inc |  | Westminster | CO | LG
Coca-Cola Bottling Company High Country |  | Rapid City | SD | LG
Cognosante |  | Falls Church | VA | LG
Cognovi Labs, Inc |  | Columbus | OH | SP
Coker Service, Inc | Coker Service, Inc | Villa Park | IL | SG
Colorado Sheet Metal JATC |  | Colorado Springs | CO | MP
Colossal Contracting, LLC |  | Annapolis | MD | MG
COMER'S CAR-GO LLC |  | Lewis | IA | SG
CommTech Global |  | Elkhorn | NE | SG
Community Security Services, LLC |  | Mobile | AL | SP
Compendium Federal Technology, LLC | CFT | Lexington Park | MD | SP
COMSETRA LLC | COMSETRA | Jay | OK | SG
COMSO, Inc |  | Columbia | MD | SG
Conceras, LLC |  | Fairfax | VA | SP
Concord Crossroads, LLC | Concord Crossroads, LLC | Dumfries | VA | SG
Conflict Kinetics Corporation |  | Sterling | VA | SG
Connectria LLC | Connectria LLC | St. Louis | MO | MG
Consolidated Dispatch Agency | Consolidated Dispatch Agency | Tallahassee | FL | MG
Consolidated Nuclear Security LLC | Y-12 National Security Complex | Oak Ridge | TN | LG
Constellation Software Engineering Corp | CSEngineering, Corp | Annapolis | MD | MG
Construction Helicopters, Inc | CHI Aviation | Howell | MI | MG
Construction MediCamp LLC |  | Austin | TX | SG
Consumers Energy |  | Jackson | MI | LG
Contracting Resources Group, Inc |  | Baltimore | MD | MP
Convergint Technologies LLC | Security Integrator | Schaumburg | IL | LP
Converse Construction, Inc | Converse Construction, Inc | Redding | CA | SG
Converse Electric |  | Grove City | OH | MG
Coronado Distribution Company, Inc |  | San Diego | CA | SG
Coronet Technology Enterprises, Inc | CivilianCyber | Richmond | VA | SP
CORPORATE AMERICA SUPPORTS YOU | VetJobs | Lake St Louis | MO | MP
Corps Solutions, LLC |  | Stafford | VA | MG
CORTAC Group |  | Issaquah | WA | MG
Cosmic Advanced Engineered Solutions, Inc | Cosmic AES | Colorado Springs | CO | MP
CoSolutions, Inc |  | Sterling | VA | MG
Coulter LLC | Coulter Specialty Painting & Finishing | Middlebury | IN | SG
CounterTrade Products, Inc |  | Arvada | CO | SP
CPMC, LLC | CPMC, LLC | Tysons Corner | VA | MG
Craig & Heidt Inc |  | Houston | TX | SP
Crane 1 Services, Inc |  | Miamisburg | OH | MG
CREAN, Inc | Crean & Associates | Austin | TX | SP
Criterion Systems, Inc |  | Vienna | VA | MG
CriticalCxE, Inc |  | Annapolis | MD | SP
Cromulence LLC |  | Melbourne | FL | SG
CROSSWORKS TECHNOLOGIES, INC |  | Orlando | FL | SG
Crowley Maritime Corporation |  | Jacksonville | FL | LP
Cruz Associates, Inc |  | Yorktown | VA | MP
CTI Resource Management Services, Inc | CTI Resource Management Services Inc | Jacksonville | FL | MG
Curtis Construction |  | Carmel | IN | SP
Custom Mechanical Systems, Corp | CMS Corporation | Bargersville | IN | MG
Customer Value Partners, Inc | CVP | Fairfax | VA | MG
CWO Technical Solutions LLC | Restoration 1 of Springfield | Lorton | VA | SG
CymSTAR LLC | CymSTAR LLC | Broken Arrow | OK | MG
CymSTAR Services LLC | CymSTAR Services LLC | Broken Arrow | OK | MG
Cypher LLC | Information Technology Company | Leesburg | VA | SP
D&G Support Services, LLC | D&G Support Services | Woodbridge | VA | SG
Daniel K. Elder | Topsarge Business Solutions, LLC | Killeen | TX | SG
Darkblade Systems |  | Winchester | VA | MG
DarkStar Intelligence LLC |  | Woodbridge | VA | MG
Data Center Solutions, Inc | DCS Data Centers | Annapolis | MD | SP
Data Machines Corp |  | Ashburn | VA | SP
Datrose, Inc |  | Webster | NY | MG
Dauntless Group Inc |  | Galveston | TX | SG
DCO Operations Hartford, LLC |  | Hartford | CT | SP
DCOIT ENTERPRISES LLC | DCOIT ENTERPRISES | Clayton | DE | SG
DD DANNAR, LLC |  | Muncie | IN | SG
Decisive Point Consulting Group, LLC |  | Fairfax Station | VA | MG
Deck Medic, Inc |  | Frankfort | IL | SG
DefendEdge OC, LLC | DefendEdge | Lombard | IL | SG
Defense Contracting, Inc | DCI Solutions | APG | MD | MP
DEFTEC Corporation |  | Huntsville | AL | SG
Delaware Center for Homeless Veterans, Inc | DCHV | Wilmington | DE | SG
Delmarva Veteran Builders |  | Salisbury | MD | SG
DELTACON GLOBAL INC | Deltacon Security & Investigations | Sugarland | TX | SP
Denali Universal Services (DUS) |  | Anchorage | AK | LG
Digital Defense, Inc |  | San Antonio | TX | MP
Digital Global Connectors, LLC |  | Chantilly | VA | SG
DiSorb Systems, Inc |  | Philadelphia | PA | SG
Dixon Management Group LLC | SERVPRO of Belle Meade | Nashville | TN | SG
DK & R Corp |  | Henderson | NV | SP
DMR Consulting, Inc | DMR | Panama City Beach | FL | SG
Dominion Energy, Inc |  | Richmond | VA | LP
Dorrean, LLC | Dorrean, LLC | Reston | VA | SG
DOTTS GROUP LLC | DOTTS GROUP LLC | Downingtown | PA | SG
Drain Masters, Inc | Drain Masters, Inc | Anchorage | AK | SG
Draken International LLC |  | Fort Worth | TX | MG
Drexel Hamilton LLC | Drexel Hamilton LLC | New York | NY | SG
DRUSILLA JONES | DRUSILLA JONES PRINCIPAL | Glendale | WI | SG
Duke Energy Corporation |  | Charlotte | NC | LG
DuPont de Nemours, Inc |  | Wilmington | DE | LG
DWBH, LLC (DWBHCORP) | DWBHCORP | Arlington | VA | SG
Dynamic Planning & Response LLC |  | Honolulu | HI | SP
E-INFOSOL LLC |  | Calverton | MD | SG
Eagle Security Group, Inc |  | Fredericksburg | VA | MG
Eagle Systems, Inc |  | California | MD | MG
Early Services, Inc |  | Decatur | AL | SG
Eastern Carolina Vocational Center, Inc |  | Greenville | NC | MG
Eaton Corp |  | Beachwood | OH | L
Ecocor, LLC |  | Searsmont | ME | SP
ECPI University LLC | ECPI University | Virginia Beach | VA | LG
EGS Inc | Empowered Global Solutions | Englewood | CO | MG
Electrical Test Instruments, LLC | ETI Precision | Frederick | MD | SP
Electrolizing, Inc |  | Providence | RI | SG
Elistair Inc | Elistair | Boston | MA | SG
Elite Pest Solutions Inc |  | Peabody | MA | SG
Eljen Corporation |  | Windsor | CT | SP
EM Key Solutions, Inc | EM Key Solutions, Inc | Tierra Verde | FL | SP
EMD LLC |  | Woodbridge | VA | SG
ENERGYneering Solutions Inc |  | Sisters | OR | SG
Enhanced Veterans Solutions Inc |  | Fairfax | VA | MP
ENSCO, Inc |  | Springfield | VA | MG
Entegrit Corporation |  | Charlottesville | VA | SP
Entergy Corporation |  | New Orleans | LA | LP
Entourage Executive Protection |  | Northridge | CA | SG
Environet Inc |  | Honolulu | HI | SG
Environmental Chemical Corporation |  | Burlingame | CA | MP
Epigen Corporation |  | Tysons | VA | SP
EPS Corporation |  | Tinton Falls | NJ | MP
Ernest C. Coleman | E L Blake inc | Phenix City | AL | SG
ERPi |  | Fairfax | VA | MG
Eskridge Enterprises LLC | Eskridge & Associates | Round Rock | TX | SP
Essence of America | Essence of America | San Diego | CA | SG
eTRANSERVICES |  | Fredericksburg | VA | SP
Evans Emergency Services, LLC | VetCor of First Coast | Jacksonville | FL | SG
Ever-Green Energy, Inc |  | Saint Paul | MN | MG
Evergreen Fire and Security | Evergreen Fire and Security | Tacoma | WA | MP
Eversource Energy |  | Hartford | CT | LG
Exact Staff, Inc |  | Calabasas | CA | MG
Excalibur Legal Staffing, LLC | The Excalibur Group | Washington | DC | SG
Excel Medical Staffing, LLC |  | Grapevine | TX | SP
Excentium, Inc |  | Reston | VA | MP
Exceptional Employees for Exceptional Results, Inc | E3R Inc | San Diego | CA | SP
Executive Airborne Solutions, Inc |  | Bellevue | NE | SP
Explosive Countermeasures International, Inc | ECI | Delaplane | VA | SP
F2 Systems, LLC |  | Waynesboro | GA | SG
Fastport, Inc |  | Valparaiso | IN | SG
Fathom5 Corporation | Fathom5 Corporation | Austin | TX | SG
Federal Practice Group | Eric S. Montalvo PLLC d/b/a Federal Practice Group | Washington | DC | SG
Federal Strategies, LLC |  | Fredericksburg | VA | SG
Firepi, Inc | Fire-pi | Minneapolis | MN | SG
FireSAFE |  | Lakeville | MN | MP
First Nation Group, LLC |  | Niceville | FL | MP
Five Star Global Security LLC |  | Fayetteville | NC | SG
Flagship Management, LLC |  | Bristol | PA | SG
Florida Institute for Human & Machine Cognition |  | Pensacola | FL | MG
Flux Resources, LLC | Flux | Lake Oswego | OR | MG
Frank Sanchez | Sancorp Consulting, LLC | Falls Church | VA | SG
Freedom Staffing LLC |  | Indianapolis | IN | MG
Fresh Start LLC, DBA Groutsmith | Groutsmith | Bryn Mawr | PA | SP
Fusion Cell LLC |  | Windham | NH | SP
G2 Global Solutions, LLC |  | Gainesville | VA | MG
Gable Services, LLC | Gabletek | Troy | MI | SG
Gana-A'Yoo, Limited |  | Anchorage | AK | SG
Gannon & Scott, Inc |  | Cranston | RI | SG
Gary R Banks Industrial Group LLC |  | West Berlin | NJ | SG
Gauss Management Research and Engineering Inc |  | South Ogden | UT | MG
GC Logistics, LLC |  | Ridgeland | MS | SP
GCubed Enterprises, Inc | GCubed, Inc | Stafford | VA | SP
GEBC, LLC |  | Owens Cross Roads | AL | SG
General Dynamics Mission Systems |  | Fairfax | VA | LG
General Electric Healthcare |  | Chicago | IL | LG
Geo Owl, LLC |  | Wilmington | NC | MG
Geostabilization International |  | Denver | CO | MP
Get Off the Drawing Board, LLC | Divergence Academy | Addison | TX | SG
Global C2 Integration Technologies | Global C2 Integration Technologies | Las Vegas | NV | SP
Global Planning Initiatives, LLC |  | Virginia Beach | VA | SP
Global Security Services | Global Security Services | Davenport | IA | MP
Global Skills Exchange Corporation | GSX | Alexandria | VA | SG
GLOBALFOUNDRIES U.S. Inc |  | Malta | NY | LG
GLOTECH, Inc | GLOTECH, Inc | Rockville | MD | MP
Go Energistics |  | Dallas | TX | SG
Goldbelt Falcon, LLC |  | Chesapeake | VA | MP
Goldbelt Frontier, LLC |  | Alexandria | VA | MP
Goldbelt Glacier Health Services, LLC |  | Alexandria | VA | MP
Goldbelt Hawk, LLC |  | Newport News | VA. | M
Golden Chariot Specialty Transport Service, LLC |  | Vancouver | WA | SG
Golden Key Group |  | Reston | VA | MG
gothamCulture |  | New York | NY | SG
Government Tactical Solutions |  | Vienna | VA | SP
Green Cell Consulting LLC |  | Fredericksburg | VA | SG
Green Expert Technology Inc |  | Haddonfield | NJ | MG
Greencastle Associates Consulting, LLC |  | Malvern | PA | SP
GSI Service Group Inc |  | Honolulu | HI | MG
GTL | Global Tel Link | Falls Church | VA | LP
Guardian Angels Medical Service Dogs, Inc |  | Williston | FL | SP
H2 Performance Consulting Corp |  | Gulf Breeze | FL | MP
Hager Development Group, LLC |  | Virginia Beach | VA | SG
Hancock Resource Center |  | Waveland | MS | SG
Hawkeye Tracking Inc |  | Lexington Park | MD | SG
HD Dog Training Llc |  | Bensalem | PA | SG
Helimax Aviation, Inc |  | McClellan | CA | MG
Hepburn and Sons LLC |  | Manassas | VA | MG
Heptagon Information Technology, LLC | Heptagon Information Technology | Montgomery | AL | SP
Hernandez Consulting & Construction | Hernandez Consulting & Construction | New Orleans | LA | MG
High Order Solutions, LLC |  | Frisco | TX | SG
HigherEchelon, Inc |  | Huntsville | AL | MP
Highland Engineering, Inc |  | Howell | MI | SG
Hollywood Casino Hotel & Raceway | HC Bangor, LLC | Bangor | ME | MG
Home Port Alliance for the Battleship New Jersey |  | Camden | NJ | MG
Hood River Consulting Engineers | GDM, Inc | Hood River | OR | SG
HTM GLobal | College of Biomedical Equipment Technology | San Antonio | TX | SG
Hudgins Contracting Corp |  | Hampton | VA | SG
Hunter Snowman Productions, LLC |  | South Ogden | UT | SG
Huntington Ingalls Industries |  | Newport News | VA | LG
Huot Construction & Services |  | South St. Paul | MN | SG
Hydro Vac Services dba GroundBreakers LLC | GroundBreakers LLC | Indianapolis | IN | SG
Iconicx Critical Solutions LLC |  | Amsterdam | NY | MP
IDEA HELIX INC |  | Fremont | CA | SG
IIS, LLC | Independence Indoor Shooting | Meridian | ID | SP
Indigo IT, LLC | Indigo IT | Reston | VA | MG
Industrial Packaging Supplies Inc | IPS Packaging & Automation | Fountain Inn | SC | MP
Infinity Technology Services, LLC | ITS, LLC | Colorado Springs | CO | SP
Infojini Inc | Infojini Inc | Columbia | MD | MG
Information Unlimited Inc |  | Washington | DC | SG
InfraMap Corp | InfraMap Corp | Glen Allen | VA | MG
Ingenious Ingenuity Inc | Vertigo Drones | Webster | NY | SG
Inspection Associates, Inc |  | Cypress | TX | SP
Inspection Experts, Inc |  | Columbia | MD | MG
Inspired Solutions, Inc | Inspired Solutions, Inc | Woodbridge | VA | SG
Integration Innovation Inc | i3 | Huntsville | AL | LG
Integrity General Contractors, LLC |  | Dallas | TX | SG
IntelliDyne, LLC |  | Falls Church | VA | MP
Intelligent Waves LLC | Intelligent Waves | Reston | VA | MG
Interactive Government Holdings, Inc |  | Springfield | VA | MP
Interactive Process Technology |  | Burlington | MA | MP
Interlake Maritime Services |  | Middleburg Heights | OH | MG
Intrepid Solutions and Services, LLC |  | Herndon | VA | MG
Intuitive Research and Technology Corporation |  | Huntsville | AL | MP
iostudio, LLC | iostudio, LLC | Nashville | TN | MP
IronMountain Solutions, Inc |  | Huntsville | AL | MP
IT Veterans, LLC |  | Herndon | VA | SP
J.G. Management Systems, Inc | J.G. Management Systems, Inc | Grand Junction | CO | MG
Jackson Ryan Construction Services, Inc |  | Suffield | CT | SG
Jacobs |  | Dallas | TX | LG
JAMA Enterprises, Inc | Strategic Consulting Partners | Mechanicsburg | PA | SG
Janissary, LLC | Janissary | Houston | TX | SP
Jay & Kay Mfg. LLC | Jay & Kay Mfg. LLC | Croswell | MI | SP
JB Management, Inc |  | Alexandria | VA | SG
JCTM LLC |  | Charlotte | NC | MP
Jeco Plastic Products, L.L.C |  | Plainfield | IN | SP
Jennings-Perrett LLC | Pinnacle Dentistry | Colorado Springs | CO | SG
Jeremy Bailey | J W Bailey Construction | Fort Wayne | IN | SG
JFL Consulting, LLC |  | Edgewater | MD | SG
JHS CONSULTING | JHS GROUP | Bunker Hill | WV | SG
Jingoli Power, LLC |  | Lawrenceville | NJ | MP
JMA Resources, Inc |  | East Berlin | PA | SP
John H. Northrop & Associates, Inc | JHNA | Clifton | VA | MG
JOHN STEVENS BERRY PC LLO | Berry Law Firm | Lincoln | NE | MP
Jovian Concepts, Inc |  | Hanover | MD | MG
JR Kays Trucking Inc |  | Clarendon | PA | SP
JustOne Solutions, LLC |  | Owings Mills | MD | SG
JVC Enterprises Inc |  | Byron Center | MI | SG
JVS SoCal |  | Los Angeles | CA | MG
K. S. Ware & Associates, LLC |  | Nashville | TN | SP
Kaizen Approach, Inc |  | Hanover | MD | SP
Kationx Corporation | Kationx Corp | Indialantic | FL | SG
KAW Enterprises LLC |  | The Villages | FL | S
Kegman Inc | Kegman Inc | Melbourne | FL | SG
Kent, Campa and Kate (KCK) Inc |  | Arlington | VA | MP
Kentco Corporation | ProteQ | Herndon | VA | SG
Kirby Rehabilitation | Kirby Rehabilitation | Chicago | IL | SG
KIRSH Helmets | KIRSH Helmets, Inc | Schenectady | NY | SG
Kitty Hawk Technologies |  | Honesdale | PA | SG
Knight Federal Solutions |  | Orlando | FL | SG
Knowesis Inc |  | Fairfax | VA | MP
Kokua Support Services Corporation |  | Newport News | VA | SG
Korman LLC |  | Waukegan | IL | SG
KPI Holdings |  | North Wales | PA | MG
KSA Integration LLC |  | Stafford | VA | SP
Kwest Group LLC | Kwest Group | Perrysburg | OH | MP
LAUNCHTECH, LLC |  | Amherst | NY | SG
Legato, LLC |  | Columbia | MD | SP
Legion Systems LLC |  | Tampa | FL | SG
Leidos |  | Reston | VA | LG
Leisureland RV Center |  | Boise | ID | SG
LENEA CORPORATION |  | Pinetop | AZ | SG
Leonardo Electronics US, Inc |  | Arlington | VA | MG
Leryn, Inc | Smash My Trash | Tampa | FL | SG
Liberty Floor Covering LLC |  | Lincoln | RI | SG
Life S Investments | Lifes Investments LLC | San Diego | CA | SG
Linchpin Solutions, Inc |  | Tampa | FL | MG
LinkItAll, LLC | LIA | Fredericksburg | VA | SG
LinQuest Corporation |  | Los Angeles | CA | LG
Lockridge Builders LLC |  | Charleston | SC | SG
LOGC2 Inc | Connected Logistics | Decatur | AL | SP
Long Capture & Contract Management LLC |  | Colorado Springs | CO | SP
Los Alamos National Laboratory |  | Los Alamos | NM | LG
Los Angeles County Metropolitan Transportation Authority (LA Metro) |  | Los Angeles | CA | LG
Louisiana Energy Services LLC | URENCO USA | Eunice | NM | MP
Lynch Consultants, LLC | Lynch Consultants, LLC | Arlington | VA | MP
M Dean Owen CPA |  | Paducah | KY | SP
Mackay Communications, Inc | Mackay Marine | Raleigh | NC | MG
Magnolia River Services Inc | Magnolia River Services | Decatur | AL | MG
Mainsail Group LLC |  | Bedford | MA | MG
Make a difference landscaping | Make a difference landscaping | Lee | NH | SG
Management Support Technology, Inc. (MSTI) | Management Support Technology, Inc. (MST | Fairfax | VA | MP
Manchester Firing Line |  | Manchester | NH | SP
ManTech International |  | Herndon | VA | LG
Mantle Security, Inc |  | Jacksonville | FL | SG
Marathon Coach, Inc |  | Coburg | OR | MP
Mark My Words LLC | Walker Bookstore | Tempe | AZ | SP
Mark Ronning LLC | Northwest Veterans Law | Salem | OR | SP
Markon, Inc | Markon Solutions | Falls Church | VA | MP
Marxmen Protection Agency |  | Dundalk | MD | SG
Maveris, LLC | Maveris | Martinsburg | WV | SP
Mb Solutions, Inc |  | Huntsville | AL | SP
MBL Technologies, Inc | MBL Technologies, Inc | Arlington | VA | MG
MCPc Inc |  | Cleveland | OH | MG
Meridian Blue Construction, LLC | Meridian Blue Construction | Lakeville | MN | SG
Mesa Natural Gas Solutions |  | Loveland | CO | MP
Messer North America, Inc | Messer North America, Inc | Bridgewater Township | NJ | LG
Metis Technology Solutions, Inc |  | Albuquerque | NM | MG
MI Technical Solutions, Inc |  | Chesapeake | VA | MP
Military Officers Association of America |  | Alexandria | VA | MG
Mission1st Group, Inc |  | Arlington | VA | MP
MIT Lincoln Laboratory | MIT Lincoln Laboratory | Lexington | MA | LG
Mobility Doctor LLC |  | Bryn Mawr | PA | SP
Mountaineer Community Health Center |  | Paw Paw | WV | SG
MRP Training Solutions, Inc |  | San Diego | CA | SG
MSN GLOBAL EDUCATION LLC | Huntington Learning Center, The Woodlands | The Woodlands | TX | SG
MULE Engineering, Inc | MULE Engineering & Construction | Winter Garden | FL | SP
MVP—Military Veterans Program | UBC—Local 2232 | Killeen | TX | MG
Namauu Technological & Industrial, LLC |  | San Antonio | TX | SP
Nation's Finest |  | Santa Rosa | CA | MP
National Association of Safety Professionals | NASP | Wilmington | NC | SG
National Consulting Partners, LLC | National Consulting Partners, LLC | Arlington | VA | SG
National Native American Construction, Inc | NNAC | Coeur D'Alene | ID | MG
Nationwide IT Services, Inc |  | Fairfax | VA | MP
Nationwide Pharmaceutical LLC |  | San Antonio | TX | SG
Native Instinct LLC |  | Boynton Beach | FL | SP
Naval Systems, Inc |  | Lexington Park | MD | MG
Navigator Development Group Inc | Navigator Development Group Inc | Enterprise | AL | MP
Navigator International LLC |  | Huntsville | AL | MP
Navy Federal Credit Union |  | Vienna | VA | LG
Nemean Solutions, LLC |  | Sierra Vista | AZ | SP
NetImpact Strategies, Inc |  | Falls Church | VA | MP
Netizen Corporation |  | Allentown | PA | SP
NetWise IT Consulting LLC |  | East Point | GA | SP
Network Cabling Services | NCS | Houston | TX | MP
Neuroscience Associates, inc | Neuroscience Associates, inc | Knoxville | TN | SG
Nevada County |  | Nevada City | CA | LP
Nevada Hospice Care LLC |  | Las Vegas | NV | SG
New Horizons of Phoenix |  | Phoenix | AZ | SP
NewBridge Partners, Inc |  | Herndon | VA | SP
NexTech Solutions LLC |  | Orange Park | FL | MP
NextEra Energy |  | Juno Beach | FL | LP
NextGen Federal Systems |  | Morgantown | WV | MG
Nisga'a Data Systems, LLC |  | Chantilly | VA | MP
Nisga'a Tek, LLC |  | Chantilly | VA | MP
Noble Oil Services, Inc |  | Sanford | NC | MG
NorCal Staffing Group, Inc | TangoAlpha3 | Austin | TX | SG
NORTH AMERICA MATTRESS CORP |  | Clackamas | OR | SG
North American Consulting Services, Inc |  | Point Pleasant | WV | SG
North American Rescue |  | Greer | SC | MP
North Bay Rehabilitation Services, Inc | North Bay Industries | Rohnert Park | CA | MP
North Texas SCS, LLC | North Texas SCS, LLC | Sherman | TX | SG
Northrop Grumman Corporation | Northrop Grumman Corporation | Falls Church | VA | LG
nou Systems, Inc |  | Huntsville | AL | MG
Novetta | Novetta, Inc | McLean | VA | LG
NTCS LLC |  | Alexandria | VA | SG
NTS Services LLC | RedSky | Aldie | VA | SP
Nucor Steel Auburn, Inc |  | Auburn | NY | MG
Nueces County Human Resources Department |  | Corpus Christi | TX | LP
Nuss Truck and Equipment | Nuss Truck and Equipment | Roseville | MN | MP
Oaklea Security Services, LLC | Oaklea Simpson Security, LLC | Westminster | MD | MP
Oasis Systems LLC | Oasis Systems | Burlington | MA | LG
Obera LLC |  | Herndon | VA | SG
Odyssey Systems Consulting Group |  | Wakefield | MA | LG
Offset Strategic Services, LLC |  | Huntsville | AL | SP
On Target Solutions Inc |  | Hendersonville | TN | SG
On Time Prime LLC |  | Daytona Beach | FL | MG
Ondadottedline, LLC |  | Salem | OR | SG
Open Systems Technologies Corporation | Open Systems Technologies Corporation | Gainesville | VA | MP
Ops Tech Alliance LLC |  | Bowie | MD | MG
Optimum Low Voltage, LLC | Optimum Fire & Security | Wilmington | NC | SG
Optimus Technologies, Inc |  | Pittsburgh | PA | SG
Opto-Knowledge Systems, Inc | OptoKnowledge | Torrance | CA | SG
Optomi, LLC/Provalus | Provalus | Atlanta | GA | MP
Orange County Sheriff's Office, Orlando, Florida |  | Orlando | FL | LG
Orion ICS LLC |  | Cary | NC | MG
Oscar Deuce LLC | ODL Services | Virginia Beach | VA | SG
Oxley Enterprises, Inc |  | Fredericksburg | VA | SG
P-11 Security, Inc | P-11 Security | Torrance | CA | SP
PACCAR WINCH INC | PACCAR WINCH Inc | Broken Arrow | OK | MG
Pacific Mountain Capital LLC |  | Scottsdale | AZ | SP
Packages From Home | Packages From Home | Glendale | AZ | SP
Pathfinder Consultants, LLC |  | Washington | DC | SP
Patriots International |  | Alexandria | VA | SG
PATRONUS SYSTEMS INC |  | Melbourne | FL | MP
Peckham Incorporated |  | Lansing | MI | MG
Peer Technical Group, LLC |  | Fond Du Lac | WI | SG
Pegasus Ponies & Petting Zoos | Pegasus Ponies & Petting Zoos | Whittier | CA | SG
Penn Power Group, LLC | Penn Power Systems; Northeast Energy Systems; Western Energy Systems | Philadelphia | PA | MG
PeopleTec, Inc |  | Huntsville | AL | MP
Peraton Inc |  | Herndon | VA | LG
PERCIVAL, INC | Percival Engineering | Columbia | MD | SP
Peregrine Technical Solutions |  | Yorktown | VA | MP
Perseverance Staffing, LLC | Perseverance | Denver | CO | SG
Persevus LLC |  | Omaha | NE | SP
PetHub, Inc |  | Wenatchee | WA | SG
Philbrook Construction Services Group, INC |  | Yarmouth Port | MA | SG
Phillips 66 |  | Houston | TX | LG
Phoenix Global Support, LLC |  | Fayetteville | NC | SP
Phoenix Management, Inc |  | Cedar Park | TX | MG
PL Consulting Inc |  | Herndon | VA | SG
Planate Management Group LLC |  | Alexandria | VA | MP
Planet Technologies Inc | Planet Technologies Inc | Germantown | MD | MG
Platform Systems, Inc | Platform Aerospace | Hollywood | MD | MG
PLEXSYS Interface Products, Inc |  | Camas | WA | MG
Ploutocracy, Inc |  | Santa Clara | CA | SG
Pole Star Space Applications USA |  | St. Petersburg | FL | SG
Portable Solar LLC | Sol-Ark | Parker | TX | SG
Portland Patrol |  | Portland | OR | MG
Posterity Group, LLC | Posterity Group, LLC | Rockville | MD | MG
Powell Strategies |  | Annapolis | MD | SG
PPT Solutions, Inc |  | Huntsville | AL | SG
Precise Systems, Inc | Precise Systems | Lexington Park | MD | LG
PRIDE Industries | PRIDE Industries | Roseville | CA | LG
Priority 1 Air Rescue Operations Arizona LP | Priority 1 Air Rescue | Mesa | AZ | SG
Pro-Sphere Tek, Inc |  | Alexandria | VA | MP
Professional Contract Services, Inc |  | Austin | TX | LP
Professional Management Enterprises |  | Indianapolis | IN | MG
Professional Solutions Delivered, LLC |  | King George | VA | SP
Project Management Professional Services Corporation | The PMO Squad | Gilbert | AZ | SP
Proteum Energy LLC |  | Phoenix | AZ | SG
Puget Sound Energy |  | Bellevue | WA | LG
Purpose Built Families Foundation |  | Pembroke Pines | FL | SG
Quadrint, Inc |  | Falls Church | VA | MG
Qualis Corporation |  | Huntsville | AL | MP
Quality Cable Installers LLC |  | Houston | TX | SP
Quick Services LLC | QSL | Cheyenne | WY | MP
Quiet Professionals LLC |  | Tampa | FL | MP
QUINNS PLUMBING HEATING COOLING |  | Reading | PA | SG
R.E. West Transportation |  | Ashland City | TN | MG
R2C Inc |  | Huntsville | AL | MP
R3 Strategic Support Group, Inc | R3SSG | Coronado | CA | MP
R4 Integration Inc |  | Fort Walton Beach | FL | SG
Radkin | Radkin | Houston | TX | MG
Rafael Systems Global Sustainment, LLC | RSGS | Bethesda | MD | SP
Rasmussen Law Firm, LLC | KR Law | Vestavia | AL | SG
Raytheon Technologies (RTX) |  | Waltham | MA | LP
RBG Janitorial LLC |  | Belvidere | IL | SP
RBR-Technologies, Inc |  | Odenton | MD | MG
RDR, Inc |  | Centreville | VA | MP
Ready Support Services LLC |  | Purcellville | VA | SP
REDCON Solutions Group | REDCON Solutions Group | Savannah | GA | MG
RELI Group Inc |  | Catonsville | MD | MP
Reliability & Performance Technologies, LLC | R&P Technologies | Dublin | PA | MG
RELYANT Global LLC |  | Maryville | TN | MG
Remy Battery Co., Inc |  | Milwaukee | WI | SG
Renaissance Global Services | Renaissance Global Services | Holmdel | NJ | SG
Research and Development Solutions, Inc. (RDSI) |  | Middletown | RI | MG
RESILIENCE-BUILDING LEADER PROGRAM LLC |  | Burbank | CA | MP
RESOURCE MANAGEMENT CONCEPTS, INC |  | Lexington Park | MD | MG
Results Technology, Inc | Results Technology | Overland Park | KS | SG
Revolution National Pest Council |  | Carson | CA | SP
RF Logistics, LLC |  | Carlsbad | CA | MP
Rhino Demolition and Environmental Services Corp |  | Myrtle Beach | SC | SG
Rhino Health, Inc |  | Church Rock | NM | SG
Richard Group LLC |  | Glenview | IL | SG
Ride N Safe Non Emergency Transport |  | Cleburne | TX | SG
RightDirection Technology Solutions LLC |  | Baltimore | MD | MG
Rigid Security Group | RIGID TACTICAL | Virginia Beach | VA | SP
Rise Armament, LLC |  | Broken Arrow | OK | MG
Rising Eagle Construction LLC |  | Lorton | VA | SG
Rite-Solutions, Inc |  | Middletown | RI | MP
RLS Construction Group, LLC |  | Camp Hill | PA | SP
RobJa, LC | Servpro of Flower Mound/Lewisville | Wylie | TX | SG
Rock Project Management Services, L.L.C |  | Renton | WA | SG
rockITdata, LLC |  | Manning | SC | SP
Rolston Information Systems Assurance | RISA | Lutz | FL | SG
Roseburg Urban Sanitary Authority |  | Roseburg | OR | SP
ROYAL G SNACKS, INC | SMART SNACK | Sarasota | FL | SG
RRDS INC | RRDS INC | Irvine | CA | SG
RTI Consulting, LLC |  | Marshall | VA | SG
Rubicon Technical Services, LLC |  | Kennesaw | GA | MP
Sabre Systems Inc |  | Warminster | PA | MG
SAF, INC |  | Akron | OH | S
Safe Foods Corporation |  | North Little Rock | AR | MG
Safespill |  | Houston | TX | SP
Sage Advisory |  | Austin | TX | MG
Saint Maximus Consulting |  | San Antonio | TX | SP
Sakom Services |  | Appleton | WI | MP
Saliense Consulting |  | Tysons | VA | SG
Salute Mission Critical | Salute Mission Critical | Clinton Twp | MI | MG
Sandia National Laboratories |  | Albuquerque | NM | LP
Sarco, Inc | Sarco, Inc | Easton | PA | SP
Sarela Technology Solutions, LLC |  | Leesburg | VA | SG
scDataCom LLC |  | Savannah | GA | SP
Schexnailder Sheet Metal |  | Rayne | LA | SG
Science Systems and Applications, Inc | SSAI | Lanham | MD | LG
Scientific Research Corporation | Scientific Research Corporation | Atlanta | GA | LG
SDV Command Source Inc |  | Winston-Salem | NC | SG
Sealing Technologies, Inc |  | Columbia | MD | MG
Security 1 Solutions, LLC | Security 1 Solutions LLC | Gaithersburg | MD | MG
Security Management of SC | Security Management of SC | Columbia | SC | LG
Seeds2 LLC | Seeds2 LLC | Garfield Heights | OH | SG
Semper Fi Doorman, Inc |  | Chicago | IL | SG
Semper Valens Solutions |  | Canyon Lake | TX | MG
Sentar, Inc | Sentar, Inc | Huntsville | AL | MG
Serco, Inc | Serco, Inc | Herndon | VA | LG
ServiceSource | ServiceSource, Inc | Oakton | VA | LG
Servpro Industries, LLC |  | Gallatin | TN | MG
Sevan Multi-Site Solutions, Inc |  | Downers Grove | IL | MG
Shearer & Associates, Inc | Shearer & Associates, Inc | Huntsville | AL | SP
Shelby County Schools | Shelby County Schools | Memphis | TN | LG
Shepherd Safety Systems, LLC |  | Houston | TX | SP
Shine Systems LLC | Shine Enterprises LLC | Charlottesville | VA | MG
SHINN KELLOGG, LLC |  | Albia | IA | SP
Short Powerline Service, LLC |  | Glenrock | WY | SG
Shotstop Ballistics LLC |  | Stow | OH | SG
Siemens Government Technologies, Inc |  | Reston | VA | MG
Sierra Management and Technologies, Inc |  | California | MD | MG
Sigma Design Company, LLC |  | Middlesex Borough | NJ | SG
Silotech Group, Inc |  | San Antonio | TX | MP
SIMCO Electronics |  | Santa Clara | CA | MG
Simulation Technologies, Inc. (SimTech) | Simulation Technologies, Inc. (SimTech) | Huntsville | AL | MG
SIXGEN, Inc |  | Annapolis | MD | SP
SkyBridge Tactical LLC |  | Tampa | FL | MG
SNVC, LC |  | Herndon | VA | SP
SoCal Airflow Pros | Tactical Air Inc. DBA SoCal Airflow Pros | Rancho Santa Margarita | CA | SP
Sodexo Government |  | Gaithersburg | MD | LP
SOF Intelligence Solutions LLC |  | Alexandria | VA | SP
Solutions for Information Design, LLC | SOLID | Fairfax Station | VA | SP
Sonalysts Inc |  | Waterford | CT | MP
South Carolina Vocations and Individual Advancement | South Carolina Vocations and Individual Advancement | Greenville | SC | SG
Southern Company | Alabama Power Company | Atlanta | GA | LP
Spartan Construction Services, Inc | SPARTAN CONSTRUCTION SERVICES INC | Beaver Falls | PA | SG
Special Applications Group |  | Tampa | FL | MP
Spectral Labs Incorporated |  | San Diego | CA | SG
Spees LLC | Spees Design Build | Seattle | WA | SP
Spezio Property Services, Inc |  | Rochester | NY | SG
Spin Systems, Inc | Spin Systems, Inc | Falls Church | VA | MP
Spring Environmental, Inc |  | Spokane | WA | SP
Standard Petroleum Logistics |  | Columbia | MD | SG
Star Mechanical LLC |  | Colorado Springs | CO | SG
Star V Corporate Training LLC | New Horizons Computer Learning Centers | Jacksonville | FL | SG
Stellar Solutions, Inc |  | Palo Alto | CA | MG
Stevens Ventures, LLC | SERVPRO of North Raleigh/WakeForest/Cary/Morrisville/Apex/Garner/Zebulon | Raleigh | NC | MG
Still Serving Veterans | Still Serving Veterans | Huntsville | AL | SG
STL Tire Recycling |  | Florissant | MO | SG
Stocks General Contractors, LLC | Stocks Management Group | Fredericksburg | VA | SG
Stop the Addiction Fatality Epidemic (SAFE) Project US | SAFE Project | Arlington | VA | SP
Strata-G, LLC | Strata-G | Knoxville | TN | MP
Strategic Alliance Business Group |  | Fairfax | VA | MP
Strategic Staffing Solutions | Strategic Staffing Solutions | Detroit | MI | MP
Summit 7 Systems, INC |  | Hunstville | AL | MG
Summit Aviation Inc |  | Middletown | DE | MP
Summit Exercises and Training |  | Saint Petersburg | FL | SG
Summit Technical Solutions, LLC |  | Colorado Springs | CO | MG
Support The Enlisted Project, Inc | STEP | San Diego | CA | SG
Supreme Insulated Panels Systems, LLC |  | Mobile | AL | SG
Surespan USA |  | Las Vegas | NV | SG
Survival Systems USA, Inc |  | Groton | CT | SG
Synack, Inc |  | Redwood City | CA | MG
Syndetix Inc |  | Las Cruces | NM | MG
Synesis7 Corporation | Synesis7 | Butte | MT | SG
Syntelligent Analytic Solutions, LLC | Syntelligent Analytic Solutions, LLC | Falls Church | VA | MP
System Studies and Simulation Inc | S3 | Huntsville | AL | MP
Systematic Business Consulting | Systematic Business Consulting Consulting LLC | Cary | NC | SG
Systematic, Inc |  | Centreville | VA | SG
Systems and Technology Research | STR | Woburn | MA | MP
Systems Planning and Analysis, Inc |  | Alexandria | VA | LG
Systems Products and Solutions, Inc |  | Huntsville | AL | MG
T and T Consulting Services, Inc | TATCS | Falls Church | VA | MP
T. S. Marshall & Associates, Inc. DBA Franklin IQ | Franklin IQ | Arlington | VA | SP
TAC Industries | The Abilities Connection | Springfield | OH | MG
Tactical & Survival Specialties, Inc | TSSi | Harrisonburg | VA | MP
Tangent Technologies, LLC |  | McLean | VA | SG
Target Media Mid Atlantic, Inc | Target Systems | Mechanicsburg | PA | MG
Team Carney, Inc |  | Alexandria | VA | MP
Tech62, Inc | Tech62 Inc | Fairfax | VA | SG
Technology Learning Group, Inc | TLG Learning | Bellevue | WA | SG
Tele-Consultants, Inc |  | Alpharetta | GA | SG
Telesis7, LLC |  | Chesterfield | MO | MG
Tetrad Digital Integrity, LLC |  | Washington | DC | SP
Textron Systems | Air Systems, Land Systems, Sea Systems, Weapon Systems, Howe & Howe, Lycoming, ATAC | Hunt Valley | MD | LG
ThayerMahan Inc |  | Groton | CT | SG
The Boeing Company |  | Chicago | IL | LP
The Cloud Geeks, Llc |  | Dover | DE | SP
The Coalition to Salute America's Heroes | The Coalition to Salute America's Heroes | Leesburg | VA | SG
The Construction Services Group, Inc |  | Charleston | SC | SG
The Electronic On-Ramp Inc | EOR | Rockville | MD | MP
The Elite Guardian Consulting Services, Inc | Elite Guardian Consulting Services, Inc., The | San Diego | CA | SG
The Greentree Group |  | Beavercreek | OH | MP
The Independence Fund |  | Charlotte | NC | SG
The Informatics Applications Group, Inc | TIAG | Reston | VA | MG
The Metamorphosis Group |  | Vienna | VA | SP
The MITRE Corporation |  | McLean | VA | LG
The O'Gara Group |  | Fairfield | OH | MG
The Pipe Line Development Company | PLIDCO | Strongsville | OH | MP
The Rockhill Group, Inc |  | Molino | FL | MG
The Ross Group Construction Corporation, Inc | Ross Group | Tulsa | OK | MG
The Veteran Initiative |  | Macdill Afb | FL | SP
The Wolverine Group |  | Washington | DC | SG
Thomas Solutions Incorporated |  | Alexandria | VA | SP
Thompson Lehman Security & Protection LLC | Thompson Lehman Security & Protection LLC | Crowley | TX | SG
Thompson Metal Fab, Inc |  | Vancouver | WA | MG
Thorcon Shotcrete and Shoring, LLC |  | Littleton | CO | SG
Tidewater Emergency Medical Services Council, Inc | Tidewater EMS Council | Chesapeake | VA | SP
TIMOTHY FELIX |  | Glendale | NY | SG
Titan Associates Group, Inc |  | Athens | TN | SG
Titan, Consultants & Engineers, LLC | TITAN | Orlando | FL | SP
TITANONEZERO |  | Annandale | VA | SG
TM3 Solutions, Inc | TM3 Solutions, Inc | Alexandria | VA | SG
TMC Design | TMC Design, A LinQuest Company | Las Cruces | NM | MP
Tokyo Electron U.S. Holdings, Inc |  | Austin | TX | LP
TOMMYS CREATIONS LLC | TOMMYS CREATIONS LLC | Marion | OH | SG
Top Gun of Virginia, Inc | Top Gun of Virginia, Inc | Lorton | VA | SG
Torden LLC | Torden LLC | New Bedford | MA | MG
Totally Joined For Achieving Collaborative Techniques, LLC | TJFACT | Atlanta | GA | MP
TP Trucking LLC | TP Trucking | Central Point | OR | MP
TPE Midstream, LLC |  | Tulsa | OK | SG
Trade Training Company LLC | Sonoran Desert Institute | Tempe | AZ | MG
Transmission Distribution Service | TDS Construction | Glenrock | WY | SG
TRECIG, LLC |  | Rockwall | TX | SP
Trewon Technologies LLC |  | Stafford | VA | SG
Tri-Logistics LLC | Program Management, Furniture, Logistics Management, Relocation Services, Professional Services | Upper Marlboro | MD | SG
TRIAEM, LLC |  | Sterling | VA | SP
Trident Technologies and Consulting—Global, LLC | T2C-Global | Wesley Chapel | FL | SG
Trinity Technology Group, Inc |  | Manassas | VA | MG
TriWest Healthcare Alliance |  | Phoenix | AZ | LP
TRJ TRANSPORTATION INC |  | Douglasville | GA | SG
Trotter Industries, LLC | Trotter Electrical Contractors | Boyertown | PA | SG
Trusted Internet, LLC |  | New Boston | NH | SG
TruWeather Solutions, Inc |  | Syracuse | NY | SG
Turbine Technologies, Inc | Burke Aerospace | Farmington | CT | MG
U.S. Vet General Contracting, LLC |  | McFarland | WI | SG
U.S. VETS—Houston | United States Veterans Initiative | Houston | TX | SG
Union Pacific |  | Omaha | NE | LG
United Rentals Inc |  | Stamford | CT | LG
United Veterans Construction and Landscape Solutions, Inc |  | Fort Worth | TX | SP
UNITEDHANDS HEALTH & WELLNESS CLINIC LLC |  | Morrow | GA | SG
Universal Strategy Group, Incorporated (USGI) | Universal Strategy Group, Incorporated (USGI) | Franklin | TN | MG
Universal Technical Resource Services, Inc | Universal Technical Resource Services, Inc | Cherry Hill | NJ | MG
University of Science Arts and Technology | USAT MONTSERRAT | Arvada | CO | SG
Upstate Warrior Solution |  | Greenville | SC | SP
US COMMUNICATIONS & ELECTRIC, INC | US COMMUNICATIONS & ELECTRIC, INC | Garfield Heights | OH | MG
USA Environmental, Inc |  | Oldsmar | FL | MG
USAA |  | San Antonio | TX | LP
USfalcon, Inc | USfalcon, Inc | Cary | NC | MG
UT-Battelle, LLC (managing Oak Ridge National Laboratory) |  | Oak Ridge | TN | LG
Utility Mapping Services, Inc |  | Clancy | MT | SG
Valiant Harbor International LLC |  | Bethesda | MD | SG
Vantage Point Consulting Inc |  | Reston | VA | SG
Vascular Center of Orlando, P.A | Vascular Vein Centers | Orlando | FL | SG
Vector Force Development |  | Collinsville | IL | MP
Vector Services |  | Batavia | IL | MP
VectorCSP | VectorCSP | Elizabeth City | NC | MP
Venergy Group, LLC | Venergy Group, LLC | Fort Pierce | FL | SG
Veracity Technology Solutions, LLC |  | Pensacola | FL | SG
Verizon | Verizon | Basking Ridge | NJ | LG
VetCor, LLC |  | Tampa | FL | SP
Veteran Engineering and Technology, LLC |  | Colorado Springs | CO | SP
Veteran Plumbing Services, Inc |  | Sewickley | PA | SG
Veterans Alliance, LLC |  | Stateline | NV | SG
Veterans ASCEND |  | Simpsonville | SC | SG
Veterans Assembled electronics | STRAC INSTITUTE | Providence | RI | SP
Veterans Elite Services LLC |  | Jacksonville | FL | SG
Veterans Enterprise Technology Solutions, Inc | VETS, Inc | Clarksville | VA | MG
Veterans Guardian VA Claim Consulting |  | Pinehurst | NC | MP
Veterans Inc |  | Worcester | MA | MP
Veterans Leadership Program of Western Pennsylvania | Veterans Leadership Program | Pittsburgh | PA | MG
Veterans Management Services, Inc |  | Sterling | VA | MP
Veterans Outreach Center, Inc | Veterans Outreach Center, Inc | Rochester | NY | SG
VETForce, INC | VETFORCE, INC | Lock Haven | PA | SG
VetLink Solutions |  | Surprise | AZ | SP
Vetted Tech Inc |  | Syracuse | NY | SP
Viasat Inc |  | Carlsbad | CA | LG
Village of Hanover Park |  | Hanover Park | IL | MG
Viqtory, Inc | Viqtory, Inc | Moon Township | PA | SG
Virgo Medical Services, Inc |  | East Orange | NJ | MG
Virtual Service Operations, LLC |  | Irving | TX | MP
VISTA Technology Services, Inc |  | Arlington | VA | MG
Volunteers of America Veteran Services | VOA Veteran Services | Sacramento | CA | SP
W R Systems, Ltd |  | Fairfax | VA | M
W. Harris GSC Inc |  | Meridian | ID | MG
Walker River Construction, Inc | Walker River Construction, Inc | Schurz | NV | SG
Walsh Enterprises, LLC |  | Dayton | TX | SG
Warfeather LLC |  | Coweta | OK | SG
Warrior Service Company |  | Hialeah | FL | SG
Watermark Risk Management International, LLC | Service-Disabled Veteran-Owned Small Business | Fairfax | VA | MG
Watershed Security, LLC |  | Chesapeake | VA | SP
Web Business Solutions, Inc |  | Fredericksburg | VA | SG
Western Electricity Coordinating Council | WECC | Salt Lake City | UT | MG
Whalls Group |  | Aliso Viejo | CA | SG
Wheeler-Wilkins Ltd Liability Co | My Sales Platoon | Chicago | IL | SP
Willis Mechanical Inc |  | Norcross | GA | SP
WindStax Energy |  | Pittsburgh | PA | SG
Windstream Holdings |  | Little Rock | AR | LG
Women In Military Service For America Memorial Foundation, Inc | Military Women's Memorial Foundn | Arlington | VA | SP
Workforce Development Board of the Treasure Coast | CareerSource Research Coast | Port St Lucie | FL | SG
Workforce Solutions of Central Texas | Central Texas Workforce Development Board, Inc | Belton | TX | MP
WorkWright Vermont, Inc | WorkWright Vermont | Shelburne | VT | SG
World Fuel Services, Inc |  | Miami | FL | LG
Worldwide Counter Threat Solutions, LLC |  | Fredericksburg | VA | SG
Wounded Warrior Project |  | Jacksonville | FL | LG
WPS Labor, LLC | WPS Labor, LLC | Rogers | AR | SG
WWC Global | WWC Global LLC | Tampa | FL | MG
X8 LLC |  | Hanover | MD | SP
Xcel Energy |  | Minneapolis | MN | LG
Yates Company, LLC | Yates Company | San Antonio | TX | SG
ZamCo Directional Drilling LLC |  | Houston | TX | SG
Zekiah Technologies, Inc |  | La Plata | MD | SP
ZenDev | ZenDev | Mesa | AZ | SG
Zero Point, Incorporated |  | Virginia Beach | VA | MP

VETS received 683 applications for the HIRE Vets Medallion Award in 2020. Among the 683 applications, 675 applications were approved for award, with 5 applications denied and 3 applications withdrawn by the applicant. Of the 675 applications approved for award, the breakdown by award type is as follows: 262 small gold (SG), 135 small platinum (SP), 134 medium gold (MG), 90 medium platinum (MP), 37 large gold (LG), and 17 large platinum (LP).

The following list shows the 675 recipients for 2020 in alphabetical order by employer name, along with their doing business as (DBA) name (as applicable), state or territory and city, and award type.⁴

⁴ Employer Name and DBA edited as appropriate; VETS is not responsible for any typographical errors.

Employer name | DBA | City | State/terr. | Award typ
34ED, LLC | Centegix | Atlanta | GA | SG
702 Executive LLC | Vanguard Government Services | Las Vegas | NV | SG
AASKI Technology, Inc | AASKI Technology, Inc | Tinton Falls | NJ | MP
Abile Group, Inc |  | Harwood | MD | SG
ABSI Aerospace & Defense | Actualized Business Solutions, Inc | California | MD | SG
Acato Information Management, LLC |  | Oak Ridge | TN | SG
Acronis SCS, Inc | Acronis SCS | Scottsdale | AZ | SG
Adaptive Construction Solutions, Inc |  | Houston | TX | SP
Adarand Constructors Inc |  | Colorado Springs | CO | SG
Advanced Green Innovations LLC |  | Chandler | AZ | SP
Advanced Sciences and Technologies | Advanced Sciences and Technologies | Berlin | NJ | MG
Advanced Technology International (ATI) | Advanced Technology International | Summerville | SC | MP
Adventech |  | Florence | AL | SP
AE Works Ltd |  | Pittsburgh | PA | SG
Affinis Corp |  | Overland Park | KA | SG
Agile IT Synergy | AITS | Tampa | FL | SP
AHSC, Inc | Mister Sparky and Benjamin Franklin Plumbing of Myrtle Beach | Conway | SC | SG
Air Quality Solutions Heating and Cooling |  | Grove City | OH | SP
Air Spray USA Inc |  | Chico | CA | SP
Airstreams Renewables, Inc |  | Tehachapi | CA | SG
Alaska Joint Electrical Apprenticeship and Training Trust |  | Anchorage | AK | MG
Albert R Renteria Corporation (aka The ARRC) | The ARRC and opps4vets | Perris | CA | SG
Aldevra LLC |  | Kalamazoo | MI | SP
All In Solutions, LLC |  | Fredericksburg | VA | SP
ALLO, a Nelnet Company | ALLO Communications | Imperial | NE | LG
ALLY Construction Services | ALLY Construction Services LLC | Bensalem | PA | SP
Alpha Roster LLC | Alpha Roster Recruiting | Reno | NV | SG
AM General LLC |  | South Bend | IN | LG
Amada Senior Care Chester County |  | Exton | PA | SG
AME CONSTRUCTION LLC | A. Eilers Construction | Cottleville | MO | SG
American Electric Power Company, Inc |  | Columbus | OH | LG
American Perseverance, Inc |  | Fort Myers | FL | SP
American Purchasing Services, LLC | American Medical Depot | Miramar | FL | MG
American States Utility Services, Inc | ASUS | San Dimas | CA | MP
AMERICAN SYSTEMS |  | Chantilly | VA | LG
American Veteran Solutions, Inc |  | Las Vegas | NV | SP
American Zinc Products LLC |  | Mooresboro | NC | MG
America's Warrior Partnership, Inc |  | Augusta | GA | SP
AmeriVet Securities, Inc |  | New York | NY | SP
Ametrine Inc |  | Rockville | MD | SP
Amgen (Rhode Island) |  | West Greenwich | RI | LP
Analytic Services, Inc | ANSER | Falls Church | VA | MP
Analytical Engineering, Inc |  | Columbus | IN | SG
Annagen LLC | Netrepid | Harrisburg | PA | SP
ANVIL Systems Group, Inc |  | Lorton | VA | SP
Aplura, LLC |  | Towson | MD | SP
Apogee Solutions |  | Chesapeake | VA | SG
Apollo Sunguard Systems, Inc |  | Sarasota | FL | SG
Arena Technologies LLC |  | Chantilly | VA | SP
ARNOLD DEFENSE & ELECTRONICS, LLC |  | Arnold | MO | SG
ARServices Limited |  | Alexandria | VA | MG
Arsiem Corporation |  | Baltimore | MD | SP
Artemis Electronics, LLC |  | Prospect | KY | SG
Ascension Global Solutions LLC |  | North Billerica | MS | SG
ASM Research, LLC |  | Fairfax | VA | LG
Assertive Professionals, LLC |  | McLean | VA | SP
Associated Veterans, LLC—Quality Solutions |  | Arlington | VA | SP
Astound LLC | Veteran Recruiting | Warrington | PA | SG
Atlas Sand Company |  | Austin | TX | MP
Atlas Technologies, Inc |  | North Charleston | SC | MG
ATS ESOP Holdings, Inc | Acclaim Technical Services | Reston | VA | MG
Attollo LLC |  | Cumberland | RI | SG
Austin Test, Inc | Bridge360 | Cedar Park | TX | SG
AutoBase Inc |  | Amityville | NY | MP
Aviate Enterprises, Inc |  | McClellan | CA | SP
Axiom Resource Management, Inc |  | Falls Church | VA | MP
Azimuth Corporation |  | Beavercreek | OH | MP
Bancroft Capital, LLC | Bancroft Capital | Fort Washington | PA | SG
Baran Agency | The Baran Agency | Folsom | CA | SP
Barnett Engineering & Signaling Laboratories LLC | BESL | Colorado Springs | CO | SG
Bath Iron Works Corporation |  | Bath | ME | LP
Battlespace, Inc |  | Arlington | VA | MG
BC Medical | BC Medical | North Highlands | CA | SG
Bell Textron Inc |  | Fort Worth | TX | LG
Berry Law Firm |  | Lincoln | NE | MP
Beshenich Muir & Associates | BMA | Leavenworth | KA | MG
Betsy Pepine | Pepine Realty | Gainesville | FL | SG
Bevilacqua Research Corporation |  | Huntsville | AL | MP
BGIS |  | Seattle | WA | MG
Big Ideas Inc |  | New Ulm | MN | SG
Bio-Tech Pharmacal |  | Fayetteville | AR | SP
Black Hills Asset Protection Group | Black Hills Patrol | Rapid City | SD | SP
Black Hills Service Company LLC | Black Hills Energy | Rapid City | SD | LG
Black Knight Inc |  | Jacksonville | FL | LG
Blakeland, LLC | Blakeland Construction Services | Jonesville | FL | SG
Blessed | 1B7 | Escondido | CA | SG
Blue Light LLC |  | Fayetteville | NC | SG
Bluepath Labs LLC |  | Washington | DC | SP
Boingo Wireless, Inc |  | Los Angeles | CA | MG
Booz Allen Hamilton |  | McLean | VA | LP
Bouma Corporation |  | Grand Rapids | MI | MG
Boyer Commercial Construction, Inc |  | Columbia | SC | SP
Boy's Electric | Service Today | West Saint Paul | MN | SP
BP Aero | BP Aerospace, BP Aero Engine Services, BP Aero Services | Irving | TX | MP
Bradley-Morris Holdings, LLC | Bradley-Morris/RecruitMilitary | Kennesaw | GA | MG
BrainTrust Holdings, LLC |  | Annapolis Junction | MD | MG
Brightstar Innovations Group, LLC |  | Arlington | VA | SG
BRITESCAPE LLC | Britescape | Seattle | WA | SG
Brooks Construction Company, Inc |  | Fort Wayne | IN | MP
BWhit Infrastructure Solutions, LLC |  | New York | NY | SG
C2C LLC |  | Chesterfield | MO | SP
Caddell Construction Co. (DE), LLC | Caddell Construction Co. (DE), LLC | Montgomery | AL | MG
CAE USA INC |  | Tampa | FL | LP
CANA LLC | CANA Advisors LLC | Gainesville | VA | SP
Capability Analysis & Measurement Organization LLC |  | Beavercreek | OH | SG
Career Learning & Employment Center for Veterans | Operation: Job Ready Veterans (OJRV) | Indianapolis | IN | SG
Career Systems Development Corporation-Penobscot Job Corps Center | Penobscot Job Corps Center | Bangor | ME | MG
Carnation Design Products, Inc |  | Alliance | OH | SG
Castle Hill Associates |  | Waterville | OH | SG
Cayuse Holdings, LLC |  | Pendleton | OR | MP
Center for a New American Security Inc |  | Washington | DC | SG
Chester's Market, Inc | Chester's Markets |  | OR | MP
Choisys Technology Inc | Choisys Technology Inc | Ashburn | VA | SG
Cincinnati Incorporated |  | Harrison | OH | MG
Cintel, Inc | Cintel, Inc | Huntsville | AL | SG
CipherLoc Corporation | QuantaNova | Arlington | VA | SG
Circle Computer Resources |  | Cedar Rapids | IA | MP
Circuit Media LLC |  | Denver | CO | SP
City of St. Charles |  | St. Charles | IL | MG
City of Treasure Island |  | Treasure Island | FL | MG
Clarklift of Des Moines, Inc | Forklifts of Des Moines | Des Moines | IA | SG
ClayDean Electric | ClayDean Electric | Denver | CO | MG
CLC, Inc | Community Learning Center | Fort Worth | TX | SG
Client First Technologies, LLC |  | Washington | DC | SG
CLIENT/SERVER SOFTWARE SOLUTIONS INC. DBA CONSTELLATION WEST | CONSTELLATION WEST | Fairfax | VA | MP
Cloud49 | Cloud49, LLC | Austin | TX | SG
Cognitive Medical Systems, Inc |  | San Diego | CA | SP
Colorado Commercial Roofing |  | Colorado Springs | CO | SP
Colorado Sheet Metal JATC |  | Colorado Springs | CO | MP
Colorado Springs Utilities |  | Colorado Springs | CO | LP
Combined Arms |  | Houston | TX | SP
Command Services & Support, Inc | Command Services & Support, Inc | Haymarket | VA | SP
Community Security Services, LLC | CSSI | Mobile | AL | SP
Compendium Federal Technology, LLC | CFT | Lexington Park | MD | SP
Complete Mechanical Contracting, LLC | Complete Heating & Cooling | Fredericksburg | VA | SG
COMSETRA LLC |  | Jay | OK | SG
Connectria, LLC |  | Saint Louis | MO | MP
Consolidated Nuclear Security LLC | Y-12 National Security Complex | Oak Ridge | TN | LG
Constellation Software Engineering Corp | CSEngineering | Annapolis | MD | MG
Consumers Energy |  | Jackson | MI | LP
CONTRACTING RESOURCES GROUP, INC |  | Baltimore | MD | SP
Converse Construction, Inc |  | Redding | CA | SG
Converse Electric |  | Grove City | OH | MG
CORPORATE OFFICE USA LLC | MADELIA HOTEL & SUITES | Madelia | MN | SP
Corps Solutions, LLC |  | Stafford | VA | MP
Corrosion Engineering International LLC | Corrosion Engineering International LLC | Midlothian | VA | SG
Coulter, Inc |  | Middlebury | IN | SP
CounterTrade Products, Inc |  | Arvada | CO | SP
CPMC, LLC | CPMC, LLC | Tysons Corner | VA | MG
Craig & Heidt Inc |  | Houston | TX | SP
CREA Affiliates | CREA Affiliates | Seattle | WA | SG
Criterion Systems, Inc |  | Vienna | VA | MG
CriticalCxE, Inc | Critical CxE Inc | Annapolis | MD | SP
Cromulence LLC |  | Melbourne | FL | SG
Crowley Maritime Corporation |  | Jacksonville | FL | LP
Cruz Associates, Inc |  | Yorktown | VA | MP
CSL Services Inc |  | Pennsauken | NJ | SG
Cup O' Joe Coffee, LLC | Veteran Roasters | Chicago | IL | SG
Customer Value Partners, Inc | CVP | Fairfax | VA | MG
CymSTAR Services, LLC |  | Broken Arrow | OK | MG
CymSTAR, LLC |  | Broken Arrow | OK | MG
D3 Mission Critical Systems | Mission Physics | Alexandria | VA | SG
Damuth Services, Inc | Damuth Trane | Chesapeake | VA | MP
DarkStar Intelligence LLC |  | Woodbridge | VA | SG
Data Center Solutions, Inc | Data Center Solutions | Annapolis | MD | SP
Dead River Company |  | South Portland | ME | LG
Deem Structural Services, LLC |  | Longview | TX | MG
DEFTEC Corporation |  | Huntsville | AL | SG
Delmarva Veteran Builders | Delmarva Veteran Builders | Salisbury | MD | SG
Delta T jr LLC |  | Hammond | LA | SG
DELTACON GLOBAL INC | DELTACON SECURITY AND INVESTIGATIONS | Sugarland | TX | SP
DEMCO ENTERPRISES, INC | Demco Automation | Quakertown | PA | SG
DiGi Discoveries LLC |  | Raleigh | NC | SG
Digital Defense, Inc |  | San Antonio | TX | MP
DiSorb Systems, Inc |  | Philadelphia | PA | SG
DK & R Corp |  | Henderson | NV | SG
Dominion Energy, Inc |  | Richmond | VA | LP
Donnie Burnside & Sons, LTD | Burnside Air Conditioning, Heating & Indoor Air Quality | McKinney | TX | SG
Dorrean, LLC |  | Reston | VA | SG
DSoft Technology, Engineering & Analysis | DSoft Technology Company | Colorado Springs | CO | SP
DuPont Inc |  | Wilmington | DE | LP
Dynamic Advancement LLC |  | San Antonio | TX | SP
Dynamic Management Associates |  | Woodbridge | VA | SG
E-9 Enterprises, Inc |  | Colorado Springs | CO | SG
Early Services, Inc |  | Decatur | AL | SG
Eastern Carolina Vocational Center, Inc |  | Greenville | NC | MG
EBI Management Group, Inc |  | Pensacola | FL | SP
EGA Associates |  | Jenkintown | PA | SG
EGS, Inc | Empowered Global Solutions | Englewood | CO | MG
Electrical Test Instruments, LLC |  | Frederick | MD | SP
Electrolizing, Inc |  | Providence | RI | SG
Elite Rescue Team, LLC | Elite Rescue Team | Holly Springs | NC | SP
Eljen Corporation |  | Windsor | CT | SP
EM Key Solutions, Inc |  | Tierra Verde | FL | SP
EmeSec Incorporated |  | Herndon | VA | SG
Employment Source, Inc | ServiceSource, Inc | Fayetteville | NC | MP
ENERGYneering Solutions Inc |  | Sisters | OR | SG
Entergy Corporation |  | New Orleans | LA | LG
Entourage Executive Protection LLC |  | Northridge | CA | SG
Environet, Inc |  | Honolulu | HI | SG
Environmental Chemical Corporation |  | Burlingame | CA | MP
EPS CORPORATION |  | Tinton Falls | NJ | MG
Epsilon, Inc |  | Weaverville | NC | MP
Eskridge Enterprises LLC | Eskridge & Associates | Round Rock | TX | SP
eTRANSERVICES Corp |  | Fredericksburg | VA | SP
Ever-Green Energy, Inc |  | Saint Paul | MN | MG
Evergreen Fire and Security | Evergreen Fire and Security | Tacoma | WA | MG
Eversource Energy |  | Hartford | CT | LG
Exact Staff Inc |  | Woodland Hills | CA | MG
Excalibur Legal Staffing, LLC | The Excalibur Group | Washington | DC | MG
Excentium, Inc |  | Reston | VA | SP
Exceptional Employees for Exceptional Results Inc | E3R Inc | San Diego | CA | SP
Executive Airborne Solutions, Inc |  | Bellevue | NE | SG
Expeditionary Technology Services, Inc |  | Atlanta | GA | SP
Explosive Countermeasures International, Inc | ECI | Delaplane | VA | SG
Exquadrum, Inc |  | Adelanto | CA | SG
F2 Systems, LLC | F2 Systems, LLC | Waynesboro | GA | MG
Fathom 4, LLC |  | Charleston | SC | SG
Fathom5 Corporation |  | Austin | TX | SG
First Nation Group |  | Niceville | FL | MP
Flagship Management, LLC |  | Huntingdon Valley | PA | SG
Florida Is For Veterans, Inc | Veterans Florida | Tallahassee | FL | SG
Forsite Group | Forsite Partners and Forsite Recruitment | Chicago | IL | SP
Frank Sanchez | Sancorp Consulting, LLC | Arlington | VA | SG
Freedom Staffing LLC |  | Indianapolis | IN | MG
Gannon & Scott Phoenix, Inc |  | Phoenix | AZ | SG
Gannon & Scott, Inc |  | Cranston | RI | SG
Gary R Banks Industrial Group LLC | Banks Industrial Group LLC | West Berlin | NJ | SG
Gauss Management Research and Engineering | GMRE, Inc | South Ogden | UT | MP
GCT Land Management Inc |  | La Grande | OR | SG
GCubed Enterprises, Inc | GCubed, Inc | Stafford | VA | SG
GEBC LLC |  | Owens Cross Roads | AL | SP
General Dynamics Mission Systems |  | Fairfax | VA | LP
Geo Owl, LLC |  | Wilmington | NC | MG
Geostabilization International |  | Denver | CO | MP
GFS Supply & Services Company Inc |  | East Hanover | NJ | SG
Global Security Services |  | Davenport | IA | MP
GLOTECH, Inc | GLOTECH, Inc | Rockville | MD | MP
Go Energistics |  | Dallas | TX | SG
Goke Technology, LLC | DBA GTSecurity—GTS | Pickerington | OH | SG
Goldbelt Falcon, LLC |  | Chesapeake | VA | MG
Goldbelt Frontier, LLC |  | Alexandria | VA | MG
Goldbelt Glacier Health Services, LLC |  | Alexandria | VA | SG
Goldbelt Hawk, LLC |  | Newport News | VA | MG
Goldbelt Transportation, LLC |  | Juneau | AK | SG
Golden Aluminum | Golden Aluminum | Fort Lupton | CO | MG
GOLDMAN ELECTRIC CORP |  | New York | NY | SG
Gradkell Systems, Inc |  | Huntsville | AL | SG
Green Cell Consulting, LLC |  | Fredericksburg | VA | SG
Green Expert Technology Inc |  | Haddonfield | NJ | MG
Greencastle Associates Consulting, LLC |  | Malvern | PA | SP
GSI Service Group, Inc | GSI Service Group, Inc | Honolulu | HI | MG
GSMB Services LLC | Gold Star Medical Business Services | San Angelo | TX | SG
Guardian Angels Medical Service Dogs, Inc |  | Williston | FL | SP
Guidehouse LLP |  | McLean | VA | LG
H2 Performance Consulting |  | Gulf Breeze | FL | SG
Hancock Management LLC |  | Derry | NH | SG
Hancock Resource Center |  | Waveland | MS | SG
Hawkeye Tracking Inc |  | Lexington Park | MD | SG
Haywood Vocational Opportunities | Haywood Vocational Opportunities | Waynesville | NC | MP
Haze Gray Vineyards LLC | Haze Gray Vineyards | Dobson | NC | SG
Helios Defense Solutions, LLC |  | Eldersburg | MD | SP
HEMEFund Worldwide |  | Terr Haute | IN | SG
High Order Solutions, LLC |  | Frisco | TX | SG
HigherEchelon, Inc |  | Huntsville | AL | MG
Highland Engineering, Inc |  | Howell | MI | SG
Hiller, LLC | Hiller Plumbing, Heating, Cooling & Electrical | Nashville | TN | LG
Home Port Alliance for the Battleship New Jersey | Battleship New Jersey | Camden | NJ | MP
Huntington Ingalls Industries |  | Newport News | VA | LG
Huot Construction & Services |  | South St. Paul | MN | SG
IDEA HELIX INC |  | Fremont | CA | SG
IIS, LLC | Independence Indoor Shooting | Meridian | ID | SG
Industrial Packaging Supplies Inc | IPS Packaging | Fountain Inn | SC | MG
Innovative Decisions, Inc |  | Vienna | VA | SG
Inspection Experts, Inc |  | Columbia | MD | MP
Integration Innovation, Inc | i3 | Huntsville | AL | LG
Integrity General Contractors, LLC |  | Dallas | TX | SG
IntellecTechs |  | Virginia Beach | VA | MG
IntelliDyne, LLC |  | Falls Church | VA | MP
Interactive Government Holdings, Inc |  | Springfield | VA | MP
Interactive Process Technology |  | Billerica | MS | MP
INTERLAKE STEAMSHIP CO |  | Middleburg Heights | OH | MG
Intrepid Solutions and Services, LLC |  | Herndon | VA | MG
Intuitive Research and Technology Corporation |  | Huntsville | AL | MG
iostudio, LLC | iostudio, LLC | Nashville | TN | MP
IronMountain Solutions, Inc |  | Huntsville | AL | MP
ISC Consulting Group Inc |  | Sierra Vista | AZ | SP
IST Research Corp | IST Research | Fredericksburg | VA | SG
IT Concepts |  | Vienna | VA | MG
IT Veterans, LLC |  | Herndon | VA | SG
Itero Group, LLC |  | New Cumberland | PA | SG
J. Baratta Industries, L.L.C | J Baratta Industries | Perth Amboy | NJ | SP
Jackson Ryan Construction Services, Inc |  | Suffield | CT | SG
JAMA Enterprises, Inc. dba Strategic Consulting Partners | Strategic Consulting Partners | Mechanicsburg | PA | SG
JESCO, Inc | JESCO, Inc | Tupelo | MS | MG
JFL Consulting, LLC |  | Edgewater | MD | SG
Jingoli Power, LLC |  | Lawrenceville | NJ | MP
JMark Services, Inc |  | Colorado Springs | CO | SG
John H. Northrop & Associates, Inc | JHNA | Clifton | VA | MG
Johnsrud Transport, Inc |  | Des Moines | IA | MG
JR Kays Trucking Inc |  | Clarendon | PA | SP
JRayl Transport Inc | JRayl Transport Inc | Akron | OH | MG
JVC Enterprises Inc |  | Wayland | MI | SG
JVS SoCal |  | Los Angeles | CA | MG
K.S. Ware & Associates |  | Nashville | TN | SG
K.West Group LLC | Kwest Group | Perrysburg | OH | MP
KaDSci, LLC |  | Fairfax | VA | SP
Kaizen Approach, Inc |  | Hanover | MD | SP
Kationx Corp |  | Indialantic | FL | SG
Katt Pact Investments, LLC | Katt Pact Investments | Los Angeles | CA | SP
Kenmar General Contracting, L.L.C | Kenmar FedGov Staffing | Key West | FL | SG
Kent, Campa and Kate (KCK) Inc |  | Arlington | VA | MP
KENTCO CORPORATION | ProteQ | Herndon | VA | SG
Kern Technology Group, LLC |  | Virginia Beach | VA | SG
Kimmie Edwards | LC3 Solutions | Killeen | TX | SG
Kingfisher Systems, Inc |  | Falls Church | VA | MG
KIRSH Helmets, Inc |  | Schenectady | NY | SG
Kitty Hawk Technologies |  | Honesdale | PA | SG
KPI Holdings |  | North Wales | PA | MG
Lanier Hospice LLC |  | Buford | GA | SG
Lansdowne Moody Co., LP | Lansdowne Moody Co., LP | Houston | TX | MP
Launch Technical Workforce Solutions |  | Oak Brook | IL | MG
Leaning Oak Leathercraft, LLC |  | Ridgeville | SC | SG
Lee Company |  | Franklin | TN | LG
LG&E and KU Energy, LLC | Louisville Gas and Electric Company, Kentucky Utilities Company, LG&E and KU Services Company | Louisville | KY | LG
Liberty Floor Covering |  | Attleboro | MS | SP
Life S Investments |  | San Diego | CA | SG
LightGrid, LLC | LightGrid, LLC | Virginia Beach | VA | MG
LogC2 Inc | Connected Logistics | Decatur | AL | SP
Loki Labs Inc |  | Orlando | FL | SG
Los Alamos National Laboratory |  | Los Alamos | NM | LG
Los Angeles Habilitation House |  | Long Beach | CA | SG
Louisiana Energy Services LLC,/URENCO USA | URENCO USA | Eunice | NM | MP
LTC Partners | Long Term Care Partners | Portsmouth | NH | MG
LTC Solutions, LLC |  | Stafford | VA | SG
Lucent Auto Work LLC | Lucent Auto Work | Tacoma | WA | SG
Luxe Holdings Group Inc | Luxe Holdings Group Inc | Lakewood | CO | SG
M Dean Owen CPA |  | Paducah | KY | SP
Mackay Communications, Inc | Mackay Marine | Raleigh | NC | MP
Madame Paulette Regal Services LLC | Madame Paulette Regal Services LLC | Detroit | MI | SG
Magnolia River Services, Inc |  | Decatur | AL | MG
MANAGMENT SUPPORT TECHNOLOGY, INC. (MSTI) |  | Fairfax | VA | MP
Marion Process Solutions |  | Marion | IA | SP
Mark My Words LLC | Walker Bookstore | Tempe | AZ | SP
Marzen Group LLC |  | Nashua | NH | SP
Maveris, LLC | Maveris | Martinsburg | WV | SP
Mb Solutions, Inc |  | Huntsville | AL | SP
MBL Technologies, Inc | MBL Technologies, Inc | Arlington | VA | SP
MCB 47 LLC | SERVPRO OF EAST NAPLES | Naples | FL | SG
MCPc Holdings, Inc |  | Cleveland | OH | MP
Media Link Telecom, LLC |  | Scott | LA | SG
Mesa Natural Gas Solutions |  | Loveland | CO | MP
Metis Technology Solutions, Inc |  | Albuquerque | NM | MP
MI Technical Solutions, Inc |  | Chesapeake | VA | SP
Midwest AgEnergy Group LLC |  | Underwood | ND | MG
Military Officers Association of America |  | Alexandria | VA | MP
MilServ ACD Corp | American Craft Deliveries MilServe | Yarmouth Port | MS | SP
Mission1st Group, Inc | Mission1st Group, Inc | Arlington | VA | MP
MIT Lincoln Laboratory | MIT Lincoln Laboratory | Lexington | MS | LG
MKS2. LLC |  | Austin | TX | MG
Mobu enterprises |  | Macon | GA | SG
Monterey Consultants, Inc |  | Dayton | OH | MP
MST Group LLC |  | West Fork | AR | SG
MULE Engineering, Inc | MULE Engineering & Construction, Inc | Winter Garden | FL | SP
N2Growth, LLC |  | Beaverton | OR | SG
National Native American Construction, Inc | NNAC, Inc | Coeur d'Alene | ID | MG
Nationwide Pharmaceutical |  | San Antonio | TX | SG
Native Instinct LLC |  | Boynton Beach | FL | SP
Navigator Development Group Inc |  | Enterprise | AL | MP
Nemean Solutions, LLC | Nemean Solutions, LLC | Sierra Vista | AZ | SG
NetImpact Strategies |  | Falls Church | VA | MP
NetWise IT Consulting LLC |  | East Point | GA | SP
NeuroScience Associates Inc |  | Knoxville | TN | SG
New England Airfoil Products Inc |  | Farmington | CT | MG
New Horizons of Phoenix | New Horizons of Phoenix | Phoenix | AZ | SG
NexTech Solutions LLC | NexTech Solutions LLC | Orange Park | FL | SP
NextEra Energy, Inc |  | Juno Beach | FL | LP
Nighthawk Integrated Solutions LLC |  | Las Vegas | NV | SG
Nisga'a Data Systems, LLC |  | Chantilly | VA | MG
Nisga'a Tek, LLC |  | Chantilly | VA | SG
Noble Oil Services, Inc |  | Sanford | NC | MG
North America Mattress Corp |  | Clackamas | OR | SP
North American Consulting Services, Inc |  | Point Pleasant | WV | SG
North American Rescue, LLC | North American Rescue | Greer | SC | MP
North Bay Rehabilitation Services, Inc | North Bay Industries | Rohnert Park | CA | MG
Northern Industrial Training, LLC |  | Palmer | AK | SP
Northern Testing, Inc |  | Minot | ND | SG
Northrop Grumman Corporation | Northrop Grumman Systems Corporation | Falls Church | VA | LG
Norton Consulting & Investigations |  | Lakewood | WA | SG
Novetta | Novetta | McLean | VA | LG
NTS Services LLC | RedSky | Aldie | VA | SP
Nucor Steel Auburn, Inc |  | Auburn | NY | MG
Nueces County Human Resources Department |  | Corpus Christi | TX | LG
Nuss Truck and Equipment | Nuss Truck and Equipment | Roseville | MN | MG
Oaklea Security Services, LLC | Oaklea Simpson Security, LLC | Westminster | MD | MP
Oasis Systems LLC | Oasis Systems | Burlington | MS | LG
OMNICOMMANDER Inc | OMNICOMMANDER | Miramar Beach | FL | SG
On Target Solutions, Inc |  | Belton | MO | SG
On Time Plumbing & Air Corp | Benjamin Franklin Plumbing | Wilmington | NC | SG
On Time Prime LLC |  | Daytona Beach | FL | MG
Open Systems Technologies Corporation |  | Gainesville | VA | MP
Opportunity Center, Inc | ServiceSource | New Castle | DE | MP
Optimum Low Voltage, LLC | Optimum Fire & Security | Wilmington | NC | SG
Orbit Advanced Technologies, Inc |  | Warminster | PA | SG
Orion ICS LLC | Orion Talent | Cary | NC | MG
Oxley Enterprises, Inc |  | Fredericksburg | VA | SP
PACCAR Winch Inc | PACCAR Winch Inc | Broken Arrow | OK | MG
Pacific Bells |  | Vancouver | WA | LP
Packages From Home | Packages From Home | Glendale | AZ | SP
Panacea Group LLC |  | Seymour | WI | SP
Panum Group, LLC |  | Bethesda | MD | LG
Pathfinder Consultants LLC |  | Washington | DC | SP
Patricio Enterprises, Inc | Patricio Enterprises, Inc | Stafford | VA | MP
PATRONUS SYSTEMS INC |  | Melbourne | FL | MG
Paul, inc | SERVPRO of Franklin, Vance and Granville Counties | Henderson | NC | SG
PavCon, LLC |  | Latrobe | PA | SG
PCI, LLC | PCI | Columbia | MD | MG
Peckham Vocational Industries, Inc | Peckham Vocational Industries, Inc | Lansing | MI | MG
PeopleTec, Inc |  | Huntsville | AL | MG
Peraton | Peraton, Inc | Herndon | VA | LG
Peregrine Technical Solutions |  | Yorktown | VA | MG
Perfect Technician Academy |  | Weatherford | TX | SG
Perseverance Staffing LLC | Perseverance | Denver | CO | SG
Persevus LLC |  | Omaha | NE | SP
Philbrook Construction Services Group, INC (PECSG) |  | Yarmouth | MS | SG
Phoenix Global Support, LLC |  | Fayetteville | NC | SP
Phoenix Management, Inc |  | Austin | TX | MG
Pinnacle West Capital Corp | Arizona Public Service Company | Phoenix | AZ | LP
PL Consulting, Inc |  | Herndon | VA | SG
Planate Management Group LLC |  | Alexandria | VA | MG
Planet Technologies, Inc | Planet Technologies, Inc | Germantown | MD | MG
PLEXSYS Interface Products, Inc |  | Camas | WA | MG
Pod-Grown LLC | POD-GROWN | Wentzville | MO | SP
Portland Patrol |  | Portland | OR | MG
Posterity Group, LLC |  | Rockville | MD | MG
Powell Strategies |  | Annapolis | MD | SG
PPT Solutions, Inc |  | Huntsville | AL | SG
PRAVA Construction Services, Inc | PRAVA Construction Services, Inc | Escondido | CA | SG
Precise Systems, Inc | Precise Systems | Lexington Park | MD | MP
Priority 1 Air Rescue Operations Arizona LP | P1AR or Priority 1 Air Rescue | Mesa | AZ | SG
Professional Solutions Delivered, LLC |  | Fredericksburg | VA | SP
Profile Packaging Inc | PPi Technologies | Sarasota | FL | SG
Programatics LLC |  | Alexandria | VA | SP
Projects Unlimited, Inc |  | Dayton | OH | MG
Property Craft |  | Pueblo | CO | SG
Pro-Sphere Tek, Inc |  | Alexandria | VA | MP
Purpose Built Families Foundation |  | Pembroke Pines | FL | SG
Q Analysts |  | San Jose | CA | MG
QED Technology Resources, LLC |  | Valrico | FL | SP
Quadrint, Inc |  | Falls Church | VA | MG
Qualis Corporation |  | Huntsville | AL | MG
Quality Cable Installers LLC |  | Houston | TX | SG
Quick Services LLC | QSL | Cheyenne | WY | MP
Quiet Professionals LLC |  | Riverview | FL | MG
R3 Strategic Support Group |  | Coronado | CA | MP
Rapid Dry Inc |  | Scottsville | NY | SG
Raytheon Company |  | Waltham | MS | LP
RBG Janitorial LLC |  | Belvidere | IL | SP
Ready Support Services LLC |  | Purcellville | VA | SG
RECRUITING FORCE, LLC | RECRUIT VETERANS | Cedar Park | TX | MG
Regenesis Biomedical, Inc |  | Scottdale | AZ | MG
RELI Group Inc |  | Catonsville | MD | MP
Reliability & Performance Technologies, LLC | R&P Technologies | Dublin | PA | MG
RELYANT Global LLC |  | Maryville | TN | MG
Remy Battery |  | Milwaukee | WI | SG
Renaissance Global Services, LLC | Renaissance Global Services, LLC | Wall | NJ | SG
Renaissance Solutions, Inc |  | Boulder | CO | MG
Renton Coil Spring Company |  | Renton | WA | MG
Resilience-Building Leader Program LLC |  | Burbank | CA | SP
Results Technology |  | Lenexa | KA | SG
Revolution National Pest Council |  | Carson | CA | SP
Rhino Demolition and Environmental Services Corp |  | Myrtle Beach | SC | SG
Richardson's Accounting Service Corporation | H&R Block | Shippensburg | PA | MG
Ridgeline International, Inc | Ridgeline International, Inc | Tysons Corner | VA | MG
Rigid Tactical | Rigid Security Group DBA Rigid Tactical | Virginia Beach | VA | SP
Riley McGuire Partners LLC |  | Washington | DC | SG
RISE Manufacturing | RISE Armament | Broken Arrow | OK | SG
River Town Electric LLC |  | Gallipolis | OH | SG
RMP SAFETY SERVICES INC dba AMERICAN SAFETY GROUP | American Safety Group | Rancho Cucamonga | CA | SG
Road Warrior Logistics LLC |  | Modesto | CA | SG
Robert Dittert Century Collision Repair |  | Essington | PA | SG
Roberts & Ryan Investments, Inc |  | New York | NY | SG
Robja, LC | Servpro of Flower Mound/Lewisville | Wylie | TX | SP
Rock Project Management Services, L.L.C |  | Renton | WA | SG
Roger Abshire | United States K9 Unlimited, LLC | Abbeville | LA | SG
Rolston Information Systems Assurance | RISA | Lutz | FL | SG
Roseburg Urban Sanitary Authority |  | Roseburg | OR | SP
RRDS INC |  | Irvine | CA | SG
Rubicon Planning, LLC |  | Roanoke | VA | SG
Rubicon Technical Services LLC |  | Kennesaw | GA | MP
S Lee LLC | Lee Crest Construction | Sanford | FL | SG
Sabre Systems Inc |  | Warrington | PA | MG
SAF, INC |  | Akron | OH | SG
Safe Foods Corporation |  | North Little Rock | AR | MG
Safespill Systems LLC |  | Houston | TX | SG
Sage Advisory Services LTD |  | Austin | TX | SP
SAKOM Services WI, LLC |  | Appleton | WI | MP
Salute Inc | Salute Mission Critical | Clinton Twp | MI | MG
Sani Law, APC |  | Encino | CA | SG
Santa Cruz County Veterans Memorial Building Board of Trustee | Santa Cruz County Veterans Memorial Building Board Of Trustee | Santa Cruz | CA | SG
SAVE Farm |  | Manhattan | KA | SP
scDataCom LLC |  | Savannah | GA | SP
Scientific Research Corporation | Scientific Research Corporation | Atlanta | GA | LG
SDV Command Source Inc |  | Winston Salem | NC | SG
SDV Construction, Inc |  | Albuquerque | NM | SG
Seabee Construction |  | Gresham | OR | SG
Sealing Technologies, Inc |  | Columbia | MD | MG
Security 1 Solutions LLC |  | Gaithersburg | MD | MG
Seeds2 LLC | Seeds2 LLC | Garfield Heights | OH | SG
Senspex, Inc |  | Albuquerque | NM | SG
Sequoia Strategies & Solutions |  | Manchester | MD | SG
Serco Inc | Serco Inc | Herndon | VA | LG
ServiceSource, Inc |  | Oakton | VA | LG
Servpro Industries | Servpro Industries LLC | Gallatin | TN | MG
SERVPRO of Belle Meade | SERVPRO of Belle Meade | Nashville | TN | SG
Sevan Multi-Site Solutions, Inc |  | Downers Grove | IL | MG
Shearer & Associates, Inc |  | Huntsville | AL | SP
Shine Systems, LLC | Shine Enterprises, LLC | Charlottesville | VA | MG
SHINN KELLOGG, LLC |  | Albia | IA | SP
SHOTSTOP BALLISTICS,LLC |  | Stow | OH | SG
ShurMed Emergency Medical Service | ShurMed EMS | San Antonio | TX | SP
Siemens Corp |  | Washington | DC | LG
Silotech Group, Inc |  | San Antonio | TX | MP
SixGen, Inc |  | Annapolis | MD | SP
SkyBridge Tactical, LLC |  | Tampa | FL | MG
SNVC, LC |  | Herndon | VA | SP
SOF Intelligence Solutions LLC |  | Alexandria | VA | SP
SOLKOA Inc |  | Colorado Springs | CO | MG
Solutions4Less, INC | S4L | Colorado Springs | CO | SG
Sonalysts Inc |  | Waterford | CT | MG
South Carolina Vocations and Individual Advancement | South Carolina Vocations and Individual Advancement | Greenville | SC | SG
Southern Company |  | Atlanta | GA | LP
Southern Spear Ironworks LLC |  | Chattanooga | TN | MG
Southwest Airlines | Southwest Airlines Co | Dallas | TX | LG
Space Coast Intelligent Solutions |  | Melbourne | FL | SP
Special Applications Group |  | Tampa | FL | MP
Spectral Labs Incorporated | Spectral Labs Incorporated | San Diego | CA | SG
Spring Environmental, Inc |  | Spokane | WA | SP
Stellar Solutions, Inc | Stellar Solutions, Inc | Palo Alto | CA | SG
Stevens Ventures, LLC | SERVPRO of North Raleigh, Wake Forest, and North Durham | Raleigh | NC | MG
Stiles Machinery, Inc |  | Grand Rapids | MI | MG
Still Serving Veterans | Still Serving Veterans | Huntsville | AL | SG
Strata-G, LLC |  | Knoxville | TN | MP
Strategic Alliance Business Group |  | Fairfax | VA | MP
Strategic Medical Equipment Solutions |  | Colorado Springs | CO | SP
Strategic Staffing Solutions, L.C |  | Detroit | MI | MP
Summit Aviation Inc |  | Middletown | DE | MP
Summit Exercises and Training LLC |  | Saint Petersburg | FL | SG
Summit Technical Solutions, LLC |  | Colorado Springs | CO | MG
Support The Enlisted Project (STEP) |  | San Diego | CA | SG
Surespan USA Inc |  | Las Vegas | NV | SG
Survival Systems USA, Inc |  | Groton | CT | SG
Synack, Inc |  | Redwood City | CA | MG
Synectic Solutions Inc |  | Oxnard | CA | MG
Syntelligent Analytic Soultions, LLC |  | Falls Church | VA | MG
System Studies and Simulation, Inc | System Studies and Simulation, Inc | Huntsville | AL | MG
Systematic Inc |  | Centreville | VA | SG
Systems Planning and Analysis, Inc |  | Alexandria | VA | LG
T and T Consulting Services, Inc |  | Falls Church | VA | MP
TAC Industries Inc | The Abilities Connection | Springfield | OH | MP
Tactical & Survival Specialties, Inc | TSSi | Harrisonburg | VA | MG
Target Media Mid Atlantic, In | Target Systems | Mechanicsburg | PA | MG
Team Carney, Inc | Carney | Alexandria | VA | MP
Tebbens Steel LLC |  | Calverton | NY | SG
Tech62, Inc |  | Fairfax | VA | SG
Technology Learning Group, Inc | TLG Learning | Bellevue | WA | SG
TekSynap |  | Reston | VA | MP
Tele-Consultants, Inc |  | Alpharetta | GA | SG
Tetrad Digital Integrity, LLC | TDI | Washington | DC | SP
Texas Bug Team LLC | Texas Bug Team | Little Elm | TX | SG
Texas Veteran Security LLC | Texas Veteran Security LLC | San Antonio | TX | SG
Textron Systems | Unmanned Systems, Marine and Land, Weapon and Sensor Systems, Lycoming Engines, Airborne Solutions | Hunt Valley | MD | LG
ThayerMahan |  | Groton | CT | SG
The AEgis Technologies Group LLC |  | Huntsville | AL | MP
The Aviation Institute of Maintenance—Norfolk, VA |  | Norfolk | VA | SP
The Cloud Geeks, Llc | The Cloud Geeks | Dover | DE | SG
The Coalition to Salute America's Heroes | The Coalition to Salute America's Heroes | Leesburg | VA | SG
The Electronic On-Ramp Inc | EOR | Rockville | MD | MP
The Greentree Group |  | Beavercreek | OH | MP
The Independence Fund |  | Charlotte | NC | SG
The Metamorphosis Group, Inc |  | Vienna | VA | SG
The Pipe Line Development Company (PLIDCO) |  | Westlake | OH | MP
The Rockhill Group, Inc |  | Molino | FL | MG
The Veteran Initiative |  | MacDill AFB | FL | SG
The W.W.Williams Company |  | Dublin | OH | LG
The Wolverine Group |  | Washington | DC | SG
Thermo Systems LLC |  | East Windsor | NJ | MP
Thomas Solutions Incorporated | Thomas Solutions Incorporated | Arlington | VA | SP
Thompson Metal Fab, Inc |  | Vancouver | WA | MG
Titan Associates Group, Inc |  | Athens | TN | SG
Titan Roofing and Exteriors | Titan Roofing and Exteriors | Urbandale | IA | SG
Titan, Consultants & Engineers, LLC | TITAN | Orlando | FL | SG
Titania Solutions Group, Inc | Titania Solutions Group, Inc | Warrenton | VA | MG
TMC Design Corporation | TMC Design Corporation | Las Cruces | NM | MG
Tokyo Electron U.S. Holdings, Inc |  | Austin | TX | LP
Topsarge Business Solutions, LLC | Topsarge Business Solutions | Killeen | TX | SP
Torden LLC | Torden LLC | New Bedford | MS | SP
TP Trucking LLC | TP Trucking | Central Point | OR | MG
Trade Training Co. LLC | Sonoran Desert Institute | Tempe | AZ | MG
Treasure Valley Advanced Concepts LLC | Advanced Services LLC | Nampa | ID | SG
TRECIG, LLC |  | Rockwall | TX | SG
TRI Industries NFP | Triumph Workplace Solutions | Vernon Hills | IL | SG
Trident Technologies and Consulting—Global, LLC | T2C-Global | Wesley Chapel | FL | SG
Trinity Technology Group, Inc |  | Manassas | VA | MP
Tri-State Mechanical & Environmental INC | Tri-State Mechanical & Environmental Services | Shreveport | LA | SG
Trj Transportation Inc |  | Douglasville | GA | SG
Trusted Internet, LLC |  | New Boston | NH | SP
TruWeather Solutions, Inc |  | Syracuse | NY | SP
United Rentals Inc |  | Stamford | CT | LG
United Veterans Construction & Landscape Solutions, Inc |  | Fort Worth | TX | SP
Universal Technical Resource Services, Inc |  | Cherry Hill | NJ | MG
Up-Side Management Company |  | Hubert | NC | SG
Upstate Warrior Solution |  | Greenville | SC | SP
US Communications and Electric, Inc | US Communications and Electric, Inc | Garfield Heights | OH | MG
USA Environmental, Inc |  | Oldsmar | FL | MG
USAA |  | San Antonio | TX | LP
Utility Mapping Services, Inc |  | Clancy | MT | SG
VANTAGE POINT CONSULTING INC |  | Reston | VA | SG
Vector Force Development |  | Collinsville | IL | MP
VectorCSP |  | Elizabeth City | NC | MP
Venergy Group, LLC |  | Fort Pierce | FL | SG
Veracity Technology Solutions, LLC |  | Pensacola | FL | SG
Veteran Data Solutions | VetDS | Landrum | SC | SG
Veteran Engineering and Technology, LLC |  | Colorado Springs | CO | SP
Veterans Alliance, LLC |  | Stateline | NV | SG
Veterans ASCEND |  | Simpsonville | SC | SG
Veterans Assembled electronics | STRAC Institute | Providence | RI | SP
Veterans Connection Organization Inc |  | Bartlesville | OK | SG
Veterans Elite Services |  | Jacksonville | FL | SG
Veterans Enterprise Technology Solutions, Inc |  | Clarksville | VA | MG
Veterans Guardian VA Claim Consulting |  | Pinehurst | NC | MP
Veterans Inc |  | Worcester | MS | MP
Veterans Leadership Program of Western Pennsylvania |  | Pittsburgh | PA | SG
Veterans Management Services, Inc |  | Sterling | VA | MP
Veterans Northeast Outreach Center, Inc |  | Haverhill | MS | MP
Veterans of Foreign Wars of the U.S |  | Kansas City | MO | MP
Veterans Outreach Center |  | Rochester | NY | SG
VETForce, Inc |  | Lock Haven | PA | SG
Vetrun LLC |  | Henryville | IN | SG
Vets2PM, LLC |  | Melbourne | FL | SG
Vetted Tech Inc |  | Syracuse | NY | SP
Vietnam Veterans of California | Veterans Resource Centers of America | Santa Rosa | CA | MP
Villa and Villa Inc | Tents Party Rental | Pottstown | PA | SG
Village of Hanover Park |  | Hanover Park | IL | MG
Virgo Medical Services, Inc |  | East Orange | NJ | MG
Virtual Enterprise Architects, LLC |  | Washington | DC | SP
Virtual Service Operations, LLC |  | Warrenton | VA | SG
Voigt-Peters Associates, LLC | VPD Government Solutions | Arlington | VA | SP
Volunteers of America Veteran Services | VOA Veteran Services | Sacramento | CA | SP
Vulcan, Inc |  | Foley | AL | MG
Vysnova Partners, Inc |  | Landover | MD | SG
W R Systems, Ltd |  | Fairfax | VA | MG
Warrior Service Company |  | Hialeah | FL | SG
Watermark Risk Management International, LLC |  | Triangle | VA | SG
Watershed Security, LLC |  | Chesapeake | VA | MP
Web Business Solutions, Inc |  | Fredericksburg | VA | SG
Westwind Computer Products Inc | Westwind Environmental | Albuquerque | NM | SP
Whalls Group | Sanford Rose Associates | Aliso Viejo | CA | SG
White Oaks Aligned, LLC |  | Raleigh | NC | SG
White Tanks Group LLC | VetLink Solutions | Surprise | AZ | SP
Willis Mechanical Inc |  | Norcross | GA | SP
WindStax Energy |  | Pittsburgh | PA | SG
WIndstream Holdings Inc |  | Little Rock | AR | LG
Winquest Engineering Corporation |  | Severn | MD | SP
Women In Military Service For America Memorial Foundation, Inc |  | Arlington | VA | SP
Worldwide Counter Threat Solutions, LLC |  | Fredericksburg | VA | SG
WPS Labor, LLC |  | Rogers | AR | SG
Xcel Energy |  | Minneapolis | MN | LG
XeoHealth Corporation | XeoHealth | Middletown | MD | SG
Xtreme Express LLC |  | Columbus | OH | SG
Yates Company, LLC | Yates Company | San Antonio | TX | SG
Your Recruiting Company Inc | YRCI | Fairfax | VA | MG
ZamCo Directional Drilling |  | Houston | TX | SG
Zekiah Technologies, Inc |  | La Plata | MD | SG
Zero Point, Incorporated |  | Virginia Beach | VA | SP

VETS received 440 applications for the HIRE Vets Medallion Award in 2019. Among the 440 applications, 427 applications were approved for award, with 6 applications denied and 7 applications withdrawn by the applicant. Of the 427 applications approved for award, the breakdown by award type is as follows: 173 small gold (SG), 62 small platinum (SP), 93 medium gold (MG), 50 medium platinum (MP), 39 large gold (LG), and 10 large platinum (LP).

The following list shows the 427 recipients for 2019 in alphabetical order by employer name, along with their doing business as (DBA) name (as applicable), city and state or territory, and award type.

Employer name | DBA name | City | State/terr. | Award typ
5x5 Brewing Co., LLC | 5x5 Brewing Co | Mission | TX | SG
6L Transport LLC |  | Pampa | TX | SG
A PRECISION AUTO GLASS, INC |  | Mobile | AL | SG
A Safe Haven Foundation |  | Chicago | IL | MG
AASKI Technology, Inc |  | Tinton Falls | NJ | MP
Acato Information Management |  | Oak Ridge | TN | SG
Acclaim Technical Services, Inc |  | Reston | VA | MG
Adaptive Construction Solutions, Inc |  | Houston | TX | SP
Advanced Technology International |  | Summerville | SC | MP
Adventure Properties LLC WA |  | Bremerton | WA | SG
Aerospace Professional Services, LLC |  | Haslet | TX | SG
Affinis Corp |  | Overland Park | KS | SP
Against All Odds Trucking Services |  | Richmond | CA | SG
Agile IT Synergy, LLC |  | Tampa | FL | SG
AGS LLC |  | Las Vegas | NV | LG
Air Quality Solutions Heating and Cooling |  | Grove City | OH | SP
Alamo City Tactical Medical Solutions LLC | ACTM Solutions LLC | San Antonio | TX | SP
ALLIED UNIVERSAL Security Services |  | Santa Ana | CA | LG
Amada Senior Care Chester County |  | Exton | PA | SG
American Senior Health Advisers |  | Warrington | PA | SG
American States Utility Services, Inc |  | Fredericksburg | VA | MG
AMERICAN SYSTEMS |  | Chantilly | VA | LG
American Veteran Solutions, Inc |  | Las Vegas | NV | SP
America's Warrior Partnership, Inc |  | Augusta | GA | SP
Amerivet Securities, Inc |  | New York | NY | SP
Analytic Services Inc | ANSER | Falls Church | VA | MP
Analytical Engineering, Inc |  | Columbus | IN | SG
Anderson Hydra Platforms, Inc |  | York | SC | SG
ANVIL SYSTEMS GROUP INC |  | Lorton | VA | SP
Appzzetti Enterprises | The Freedom Cafe | Melbourne | FL | SG
Area X Cyber Solutions LLC |  | Dumfries | VA | SG
AREVALOS TRADE COMPANY |  | San Antonio | TX | SG
ArgenTech Solutions |  | Newmarket | NH | MG
ASM Research, LLC |  | Fairfax | VA | LG
Aspen Communications | Aspen Engineering & Contracting | Prescott | AZ | SG
Assured Consulting Solutions LLC |  | Reston | VA | SG
ATECH, Inc |  | Nashville | TN | SG
Atlantic Nitrogen & Testing LLC |  | Washington | PA | SG
Atlas Sand Company | Atlas Sand | Austin | TX | MG
AutoBase Inc |  | Amityville | NY | MP
Aviate Enterprises, Inc |  | McClellan Park | CA | SP
Azimuth Corporation |  | Beavercreek | OH | MP
Azule Management Group, Inc |  | Eagan | MN | SP
Azule Opportunities, LLC |  | Northfield | MN | SG
B3 Group Inc |  | Herndon | VA | MG
Bancroft Capital, LLC |  | Fort Washington | PA | SP
Banning Contracting Services, Inc |  | Tulsa | OK | SG
BD Anthonys LLC | Anthony's Barber Shop | Wyomissing | PA | SG
Berry Law Firm |  | Lincoln | NE | MP
Bevilacqua Research Corporation |  | Huntsville | AL | MG
BGIS |  | Seattle | WA | LG
Black Hills Asset Protection Group, LLC | Black Hills Patrol | Rapid City | SD | SP
Blackfly Investments, LLC | Molecular Testing Labs | Vancouver | WA | MG
Blue Line Systems LLC |  | Franklin | MA | SG
Bluecord International, Inc | Bluecord | Hillsboro | OR | SG
BluePath Labs |  | Washington | DC | SP
BLUERIDGE IT Solutions |  | Montgomery | AL | SG
Booz Allen Hamilton |  | McLean | VA | LG
Boston Services, LLC |  | Burlington | MA | SG
Bowman Tax & Financial LLC |  | Fredericksburg | VA | SG
Boyer Commercial Construction, Inc |  | Columbia | SC | SG
Boy's Electric | Service Today! | South St. Paul | MN | MG
Brad Deery Motors, Inc | General Motors, Dodge, and Ram New Vehicle Dealership | Maquoketa | IA | MG
Bradley-Morris Holdings, LLC | Bradley-Morris/RecruitMilitary | Kennesaw | GA | MG
BrainTrust Holdings LLC |  | Annapolis Junction | MD | MP
Brodar Chiropractic Office |  | Delphi | IN | SG
Brooks Construction Co., Inc |  | Fort Wayne | IN | MG
Buck & Doe's Mercantile |  | San Antonio | TX | SG
BULLET RENTAL & SALES INC |  | Klamath Falls | OR | SG
C2C LLC |  | Chesterfield | MO | SG
CAE USA INC |  | Tampa | FL | LG
Camblin Mechanical, Inc |  | Atlantic | IA | SG
CANA LLC | CANA Advisors LLC | Gainesville | VA | SG
Capco LLC |  | Grand Junction | CO | MG
Capewell Aerial Systems, LLC |  | South Windsor | CT | MG
Carnation Design Products, Inc |  | Alliance | OH | SG
Cayuse Holdings |  | Pendleton | OR | MP
Central Florida Cloud, LLC |  | Malabar | FL | SG
Chamberlain Advisors LLC |  | Chicago | IL | SP
Chemours |  | Wilmington | DE | LG
Chicago Executive Airport |  | Wheeling | IL | SG
Chief Safety Services, LLC |  | Peoria | IL | SG
Cincinnati Incorporated |  | Harrison | OH | MG
City Machine Technologies, Inc |  | Youngstown | OH | MG
City of Minnetonka |  | Minnetonka | MN | MG
City of New Haven Missouri | City of New Haven | New Haven | MO | SG
City of St Charles |  | St. Charles | IL | MG
ClayDean Electric |  | Denver | CO | SG
Cloud49 |  | Austin | TX | SG
Cobham Advanced Electronic Solutions |  | Arlington | VA | LG
Colorado Commercial Roofing, Inc |  | Colorado Springs | CO | SG
Colorado Sheet Metal JATC |  | Colorado Springs | CO | MP
Companion Home Care, Inc |  | Salem | VA | SG
COMSETRA LLC |  | Jay | OK | SG
Connectria |  | St. Louis | MO | MG
Consolidated Dispatch Agency |  | Tallahassee | FL | MG
ContactUS Communications |  | Columbus | OH | LG
CONTRACTING RESOURCES GROUP, INC |  | Baltimore | MD | SP
Converse Construction, Inc |  | Redding | CA | SG
Coulter & Son, Inc |  | Middlebury | IN | SG
CPMC, LLC |  | Potomac Falls | VA | MG
Crean & Associates |  | Lakeway | TX | SP
Crossroads Technologies |  | Wyomissing | PA | SG
CTC, INC |  | Oklahoma City | OK | SG
Cudd Pumping Services, Inc |  | The Woodlands | TX | LG
Curtis Construction |  | Carmel | IN | SG
CWO Technical Solutions LLC | Restoration 1 of Springfield | Springfield | VA | SG
DAK Resources, Inc |  | Jacksonville | FL | MG
Darter Specialties, Inc |  | Cheshire | CT | SG
Data Center Solutions, Inc | DCS-Data Centers | Annapolis | MD | SP
Dead River Company |  | South Portland | ME | LG
Deltacon Global Inc |  | Richmond | TX | SG
Demco Enterprises, Inc | Demco Automation | Quakertown | PA | SG
Denron Plumbing and HVAC, LLC |  | Manchester | NH | MG
DENSO International America, Inc |  | Southfield | MI | LG
DFW Dungeon LLC |  | Dallas | TX | SG
Digital Defense, Inc |  | San Antonio | TX | MP
Dominion Energy, Inc |  | Richmond | VA | LP
Donnie Burnsides & Sons, LTD | Burnside Air Conditioning, Heating & Indoor Air Quality | McKinney | TX | SG
Drain Masters inc |  | Anchorage | AK | SP
DRH CONSTRUCTION LLC |  | Richmond | UT | SG
Duke Energy Business Services LLC |  | Charlotte | NC | LG
Eastern Carolina Vocational Center, Inc |  | Greenville | NC | MG
Eaton Corp PLC | Eaton | Cleveland | OH | LG
EGS, Inc | Empowered Global Solutions | Englewood | CO | MG
Elgin Discount Liquor Wine Beer |  | Elgin | OK | SG
Elite Rescue Team LLC | Elite Rescue Team | Holly Springs | NC | SG
Eljen Corporation |  | Windsor | CT | SP
ENERGYNEERING SOLUTIONS INC |  | Sisters | OR | MG
Entegrit Corporation |  | Philadelphia | PA | SP
Entergy Corporation |  | New Orleans | LA | LP
Epigen Technology Corp |  | McLean | VA | SP
equilibrium it solutions, inc |  | Chicago | IL | SP
Eskridge Enterprises LLC | Eskridge & Associates | Round Rock | TX | SP
eTRANSERVICES Corporation |  | Fredericksburg | VA | SP
Ever-Green Energy, Inc |  | Saint Paul | MN | MG
Exact Staff, Inc |  | Woodland Hills | CA | MG
Excalibur Legal Staffing LLC | The Excalibur Group | Washington | DC | MG
Excentium, Inc |  | Falls Church | VA | SP
Executive Airborne Solutions, Inc |  | Bellevue | NE | SG
Fastport, Inc |  | Lowell | MA | SG
Fathom 4, LLC |  | Charleston | SC | SG
FDM Group Inc |  | New York | NY | LG
Fermilab | Fermi National Accelerator Laboratory, Fermilab, Fermi Research Alliance | Batavia | IL | LG
FiberQA LLC |  | Old Lyme | CT | SG
First Nation Group LLC |  | Niceville | FL | MG
FirstPathway Partners |  | Milwaukee | WI | SG
Florida Is For Veterans, Inc | Veterans Florida | Tallahassee | FL | SG
Forsite Partners |  | Chicago | IL | SP
Franklin Equipment LLC |  | Groveport | OH | MP
Freedom Staffing LLC |  | Indianapolis | IN | SG
Fusion Technology LLC |  | Bridgeport | WV | MG
G C Logistics LLC |  | Ridgleand | MS | SG
Gannon & Scott Phoenix, Inc | Gannon & Scott | Phoenix | AZ | SG
Gary Merlino Construction |  | Seattle | WA | MG
Gary R Banks Industrial Group LLC | Banks Industrial Group LLC | West Berlin | NJ | SG
Gary/Chicago International Airport |  | Gary | IN | SP
GCubed Enterprises, Inc | GCubed, Inc | Stafford | VA | SG
Geostabilization International |  | Denver | CO | MP
Global Executive Security, Inc |  | Beverly Hills | CA | SP
Go Energistics, LLC |  | Dallas | TX | SG
Go High Corp | PROM BRING IT | Glen Allen | VA | SP
Golden Aluminum, Inc |  | Fort Lupton | CO | MG
Greater Columbus Convention Center |  | Columbus | OH | MG
Green Cell Consulting, LLC |  | Fredericksburg | VA | SG
GREEN EXPERT TECHNOLOGY INC |  | Haddonfield | NJ | SG
Green Group Global LLC | Green Group | Edmond | OK | SG
Greencastle Associates Consulting, LLC |  | Malvern | PA | SP
Guardian Angels Medical Service Dogs, Inc |  | Williston | FL | SG
Halfaker and Associates |  | Arlington | VA | MP
Hancock Management LLC |  | Derry | NH | SG
Hartman Appliance & Electronics LLC | Cabin Hill Maytag & SleepSource | Greensburg | PA | SP
Hathlocke Security Group LLC |  | Dallas | TX | SG
HEBCO, Inc |  | Oklahoma City | OK | MG
Heinrich Services, LLC |  | Lockport | NY | SG
Helios Defense Solutions, LLC |  | Eldersburg | MD | SP
High Order Solutions, LLC |  | Frisco | TX | SP
HigherEchelon, Inc |  | Huntsville | AL | MG
Hiller, LLC | Hiller Plumbing, Heating, Cooling & Electrical | Nashville | TN | LG
Hilton Garden Inn—Waldorf | St. Charles Operating, LLC | Waldorf | MD | SG
Hollandia Dairy, Inc |  | San Marcos | CA | MG
Ingalls Shipbuilding—A Division of Huntington Ingalls Industries | Ingalls Shipbuilding | Pascagoula | MS | LG
Inspection Experts, Inc |  | Columbia | MD | MP
IntelliDyne, LLC |  | Falls Church | VA | MP
Interactive Process Technology |  | Billerica | MA | MP
Intermountain Polygraph Services | James Woods Intermountain Polygraph Services | Twin Falls | ID | SG
Intuitive Research and Technology Corporation |  | Huntsville | AL | MP
Invenergy Services LLC |  | Chicago | IL | MG
Invictus Internal Holding LLC | Invictus GS3 | Las Vegas | NV | MG
Iowa Lakes Regional Water |  | Spencer | IA | SP
IT Veterans, LLC |  | Herndon | VA | SG
Itero Group, LLC |  | New Cumberland | PA | SP
ITRCC Concession Company LLC |  | Granger | IN | MG
J. Rayl Transport, Inc | J. Rayl Transport, Inc | Akron | OH | MG
Java Productions, Inc | JPI | Blacksburg | VA | MP
Jay & Kay Mfg. LLC |  | Croswell | MI | SP
JetHq DMCC |  | Kansas City | MO | SG
JOHN DONOGHUE AUTOMOTIVE INC | AUTOMOTIVE DEALER | Whiteville | NC | SG
John Wilcox Plumbing and Heating LLC |  | Pittsburgh | PA | SG
JOHN'S PRECISION AUTO BODY |  | Marion | NC | SG
Joseph Jingoli & Son, Inc | Jingoli Power, LLC | Lawrenceville | NJ | MG
JR Kays Trucking Inc |  | Clarendon | PA | SP
JVS SoCal |  | Los Angeles | CA | MG
KaDSci, LLC |  | Springfield | VA | SG
Kegman Inc |  | Melbourne | FL | SG
Kent, Campa and Kate (KCK) Inc |  | Arlington | VA | MP
Keystone Fire Protection Co |  | North Wales | PA | MG
Kim Kochman | Manor Lake Labradoodles | Bellingham | WA | SG
Kitty Hawk Technologies |  | Honesdale | PA | SG
Knight Federal Solutions inc |  | Orlando | FL | MP
Korman LLC |  | Waukegan | IL | SP
LA Aluminum Casting Company | REO Industries, Inc | Hayden | ID | SG
Launch Technical Workforce Solutions |  | Oak Brook | IL | MG
Leaf Enterprises, Inc | Leaf Pest Control | Monaca | PA | SP
Legion Systems LLC |  | Tampa | FL | SG
Logistics Health Incorporated |  | La Crosse | WI | LG
Los Alamos National Laboratory |  | Los Alamos | NM | LG
Los Angeles Habilitation House, Inc | LAHH | Long Beach | CA | SG
LTC Partners | Long Term Care Partners | Portsmouth | NH | MG
Luhcs Enterprises LLC |  | Overland | MO | SG
Lunarline, Inc |  | Arlington | VA | MP
M Dean Owen CPA |  | Paducah | KY | SG
MAG Enterprise Inc | B&B Towing and Recovery | Brownington | VT | SG
Mainsail Group, Inc |  | Bedford | MA | SG
Mako Medical Laboratories |  | Raleigh | NC | MG
MANAGEMENT SUPPORT TECHNOLOGY, INC. (MSTI) |  | Fairfax | VA | MP
Marc-On Shooting LLC |  | Chippewa Falls | WI | SG
Marion Process Solutions |  | Marion | IA | MP
Maven Construction & Environmental, LLC |  | Odon | IN | SG
Maveris, LLC | Maveris | Martinsburg | WV | SP
Mayhew Technology Solutions |  | Edmond | OK | SG
McFarland Technology Inc |  | Murrysville | PA | SG
MCPc, Inc |  | Cleveland | OH | MG
Mechanical Solutions of Arkansas L.L.C | Mechanical Solutions of Arkansas L.L.C | Little Rock | AR | SG
Mesa Natural Gas Solutions |  | Evansville | WY | MP
Metis Technology Solutions, Inc |  | Albuquerque | NM | MP
Midwest AgEnergy Group LLC |  | Underwood | ND | MG
Mission 1st Group Inc |  | Arlington | VA | MP
MKS2, LLC |  | Austin | TX | MG
MULE Engineering, Inc | MULE Engineering & Construction | Winter Garden | FL | SP
MVP United | JDog United | Houston | TX | MG
Navigator Development Group Inc |  | Enterprise | AL | MP
NEPA CLEANING PROFESSIONALS, LLC | Stacie Anne Jordan DBA NEPA Cleaning Professionals | Wyoming | PA | SG
Nesper International Inc |  | LaGrange | GA | SG
Netizen Corporation |  | Allentown | PA | SP
Newport News Shipbuilding |  | Newport News | VA | LG
NexTech Solutions LLC |  | Orange Park | FL | SG
NextEra Energy, Inc |  | Juno Beach | FL | LP
Nighthawk Integrated Solutions LLC |  | Las Vegas | NV | SG
nLogic, LLC | nLogic | Huntsville | AL | MP
North America Mattress Corp |  | Clackamas | OR | SG
North American Consulting Services, Inc |  | Point Pleasant | WV | SG
North Central Illinois Finishing Trades Institute |  | Aurora | IL | SP
Northrop Grumman Corporation | Northrop Grumman Systems Corporation | Falls Church | VA | LP
No-Sag Products; Division of Leggett & Platt, Inc |  | Kendallville | IN | MG
Novetta | Novetta, Inc | McLean | VA | LG
NTS Services LLC | RedSky | Aldie | VA | SP
NURIDE TRANSPORTATION GROUP, LLC | NURIDE | Long Island City | NY | MG
Nuss Truck and Equipment | Nuss Truck Group Inc | Roseville | MN | MG
NuWaves Engineering |  | Middletown | OH | MP
Oasis Systems LLC |  | Lexington | MA | LG
Occidental Petroleum |  | Houston | TX | LG
Omnicommander Inc | Omnicommander | Miramar Beach | FL | SG
On Computer Services, LLC | Unified Power | Terrell | TX | MP
On Time Plumbing & Air Corp | Benjamin Franklin Plumbing | Wilmington | NC | SG
Open Systems Technologies Corporation |  | Gainesville | VA | MG
Opportunity Center, Inc | ServiceSource | New Castle | DE | MP
Orbit Advanced Technologies, Inc |  | Warminster | PA | SP
Organic Shield, LLC | Shield Construction Division | Troy | MO | SG
Orion ICS LLC | Orion Talent | Cary | NC | MG
Orion Services Inc |  | Gloucester | MA | SG
Oxley Enterprises, Inc |  | Stafford | VA | SP
PACCAR Winch Inc |  | Broken Arrow | OK | MG
Pacific Gas & Electric Company |  | San Francisco | CA | LG
Packages From Home |  | Glendale | AZ | SP
Parker Hannifin | Parker Hannifin Corporation | Albion | IN | MG
Patricio Enterprises, Inc |  | Stafford | VA | MP
PavCon, LLC |  | Latrobe | PA | SG
Payken LLC | Sunset Hill Shooting Range | Henryville | PA | SG
Peer Technical Group LLC |  | Fond du Lac | WI | MG
PeopleTec, Inc |  | Huntsville | AL | MG
Perrone Direct |  | Plymouth | MA | SG
Perseverance Staffing LLC | Perseverance | Monument | CO | MG
Persevus LLC |  | Omaha | NE | SP
Perspecta |  | Chantilly | VA | LG
PGFM Solutions, LLC |  | Sewell | NJ | SG
Philadelphia Mortgage Brokers LLC |  | Collegeville | PA | SG
Phoenix Systems International, Inc |  | Kingston | TN | SG
Pinnacle Solutions, Inc |  | Huntsville | AL | MG
Pinnacle West Capital Corp | Arizona Public Service Company | Phoenix | AZ | LP
PK Group, LLC | Connelly Industrial Electronics | Centerville | MN | SG
Planet Technologies Inc | Planet Technologies, Inc | Germantown | MD | MG
PLEXSYS Interface Products, Inc |  | Camas | WA | MG
Pluribus International Corporation |  | Alexandria | VA | MG
PNT Data Corp |  | Middletown | CT | SP
Pointer Construction Group LLC |  | Fort Lauderdale | FL | SG
Polarhyde Distribution Corp | Final Flat Roof | West Palm Beach | FL | SG
Portland Patrol Inc |  | Portland | OR | MG
Prestige Group |  | Clinton Township | MI | MG
Professional Contract Services Inc | PCSI Texas LLC | Austin | TX | LG
Professional Solutions Delivered, LLC |  | Fredericksburg | VA | MG
Programatics LLC |  | Chesterfield | VA | SG
Projects Unlimited, Inc |  | Dayton | OH | MG
Proseal America, Inc | Proseal America.com | Richmond | VA | MG
Pro-Sphere Tek, Inc | ProSphere | Alexandria | VA | MP
Purpose Contracting Asphalt LLC |  | Franksville | WI | SG
QB Medical, Inc |  | Chula Vista | CA | SG
QED Technology Resources, LLC |  | Valrico | FL | SP
Qualis Corporation |  | Huntsville | AL | MG
Quality Distribution Inc |  | Tampa | FL | LG
Queen City Blacktop Co. Inc |  | Cincinnati | OH | SP
Quiet Professionals LLC |  | Tampa | FL | MP
R.E. West , Inc |  | Ashland City | TN | MP
Raytheon Company |  | Waltham | MA | LP
Ready Support Services LLC |  | Purcellville | VA | SG
Recruiting Force, LLC | Recruit Veterans | Cedar Park | TX | MP
Red River Technology, LLC |  | Claremont | NH | MG
Regenesis Biomedical, Inc |  | Scottsdale | AZ | MG
Resilient Solutions, Ltd |  | McLean | VA | SG
Revolution Pest Solutions |  | Carson | CA | SG
Rhino Demolition and Environmental Services Corp |  | Myrtle Beach | SC | SG
RightDirection Technology Solutions LLC |  | Baltimore | MD | MG
Rigid Security Group | Rigid Tactical | Virginia Beach | VA | SG
Riverside Mfg., LLC |  | Fort Wayne | IN | MG
Rubicon Technical Services LLC |  | Kennesaw | GA | SP
SAKOM Services LLC |  | Appleton | WI | MP
Salute Inc | Salute Mission Critical | Clinton Township | MI | MG
Sancorp Consulting, LLC |  | Arlington | VA | SG
Scientific Research Corporation |  | Atlanta | GA | LG
SDV Command Source Inc |  | Winston-Salem | NC | SG
Sealing Technologies, Inc |  | Columbia | MD | SP
Security 1 Solutions LLC | All Source Protection | Gaithersburg | MD | MG
Semper Fi Doorman, Inc |  | Chicago | IL | SG
Senior Dog Sanctuary of Maryland Inc | The Senior Dog Sanctuary | Severn | MD | SG
Senspex, Inc |  | Albuquerque | NM | SG
Servicemen General Contracting Group LLC |  | Río Grande | PR | SG
ServiceSource, Inc |  | Oakton | VA | LG
SERVPRO of West Forsyth County |  | Winston-Salem | NC | SG
Shearer & Associates, Inc |  | Huntsville | AL | SG
SHINN KELLOGG, LLC |  | Albia | IA | SP
Shotstop Ballistics LLC |  | Stow | OH | SG
Siemens Corp |  | Washington | DC | LG
Sigma Six Solutions Inc |  | Auburn | WA | SG
Silotech Group Inc |  | San Antonio | TX | MP
SimVentions, Inc |  | Fredericksburg | VA | MP
Smoke Hall Foods L3C | The General's Hot Sauce | Columbia | SC | SP
Sodexo Government East |  | Jacksonville | NC | MP
Southeast Vocational Alliance |  | Houston | TX | SG
Southwest Airlines | Southwest Airlines Co | Dallas | TX | LG
Spade Corporation |  | Georgetown | KY | SG
SPRING ENVIRONMENTAL, INC |  | Spokane | WA | SP
Stanley Black and Decker |  | New Britain | CT | LG
Steam Turbine Alternative Resources |  | Marion | OH | SG
Stewart General Contracting, LLC | SGC | Cherry Hill | NJ | SG
Stiles Machinery |  | Grand Rapids | MI | MG
Strategic Alliance Consulting Incorporated |  | Warrenton | VA | SG
Strategic Medical Equipment Solutions, LLC |  | Colorado Springs | CO | SG
Strategic Staffing Solutions |  | Detroit | MI | LG
Summit Aviation Inc |  | Middletown | DE | MP
Summit Technical Solutions, LLC |  | Colorado Springs | CO | MG
Sunterra Supports Services LLC |  | Idaho Falls | ID | SG
Superior Reedsville Filtration, LLC | Superior Fibers, LLC | Reedsville | WV | MG
Sysco North Dakota |  | Fargo | ND | MG
Systems Planning and Analysis, Inc |  | Alexandria | VA | LG
Syzygy Integration LLC |  | Philadelphia | PA | SG
TAC Industries Inc | TAC Industries | Springfield | OH | MG
Tactical & Survival Specialties, Inc | TSSi | Harrisonburg | VA | MG
Talentscale, Inc |  | Las Vegas | NV | MP
Target Media Mid Atlantic Inc | Target Systems | Mechanicsburg | PA | MG
Team Red, White & Blue, Inc |  | Alexandria | VA | SG
Tech62, Inc |  | Fairfax | VA | SG
TekSynap |  | Reston | VA | MG
The Aviation Institute of Maintenance—Chesapeake, VA |  | Chesapeake | VA | SP
The Cosmopolitan of Las Vegas | Nevada Property 1 LLC | Las Vegas | NV | LG
The Independence Fund |  | Charlotte | NC | SG
The Lighthouse for the Blind in New Orleans, Inc | Lighthouse Louisiana | New Orleans | LA | MP
The McConnell Group, Inc |  | Landover | MD | MG
The Pipe Line Development Company (PLIDCO) |  | Westlake | OH | MP
The Ribbon Incorporated | Overhead Door Company of FranklinTM/Greater ErieTM | Franklin | PA | SG
The Steel Network, Inc |  | Durham | NC | MG
The Vocation Depot, Inc | The Vocation Depot | Plant City | FL | SG
Thermo Systems LLC |  | East Windsor | NJ | MG
Thomas Solutions Incorporated |  | Arlington | VA | SP
TimkenSteel Corporation |  | Canton | OH | LP
TISTA Science and Technology |  | Rockville | MD | MP
Tokyo Electron U.S. Holdings Inc |  | Austin | TX | LG
Torden LLC |  | New Bedford | MA | SG
Training, Rehabilitation & Development Institute, Inc | TRDI | San Antonio | TX | MG
Travis County Emergency Services District No. 2 |  | Pflugerville | TX | MP
Treblig Inc | Treblig USA Machining Technologies | Greenville | SC | SG
TRECIG, LLC |  | Rockwall | TX | SG
TRI Industries NFP |  | Vernon Hills | IL | SG
Trinity Technology Group, Inc |  | Manassas | VA | MG
Tri-State Mechanical & Environmental INC | Tri-State Mechanical & Environmental Services | Shreveport | LA | SG
TRJ Transportation Inc |  | Douglasville | GA | SG
U.S. Federal Solutions, Inc |  | Silver Spring | MD | SG
U.S. Vet General Contracting, LLC |  | McFarland | WI | SG
Union Pacific |  | Omaha | NE | LG
UNITED DRUG SUPPLY, INC |  | Morrisville | NC | SG
United Rentals, Inc |  | Stamford | CT | LP
United Veterans Construction & Landscape Solutions, Inc |  | Fort Worth | TX | SP
USA Environmental, Inc |  | Oldsmar | FL | MG
USAA |  | San Antonio | TX | LP
VetCor, LLC |  | Tampa | FL | SP
Veteran Plumbing Services, Inc |  | Sewickley | PA | SG
Veterans ASCEND |  | Simpsonville | SC | SP
Veterans Assembled electronics | VAe | Providence | RI | SG
Veterans Elite Services |  | Jacksonville | FL | SG
Veterans Guardian |  | Pinehurst | NC | SG
Veterans Inc |  | Worcester | MA | MP
Veterans Leadership Program of Western Pennsylvania |  | Pittsburgh | PA | SG
Veterans Management Services, Inc | Veterans Management Services Inc | Sterling | VA | MP
Veterans Outreach Center Inc |  | Rochester | NY | SG
VetLink Solutions |  | Litchfield Park | AZ | SG
Vets United LLC |  | White Plains | MD | MG
Vets2PM, LLC |  | Melbourne | FL | SG
Vietnam Veterans of California | Veterans Resource Centers of America | Santa Rosa | CA | MP
Vysnova Partners, Inc |  | Landover | MD | SG
W R Systems, Ltd |  | Fairfax | VA | MG
Watershed Security, LLC |  | Chesapeake | VA | SP
Windstream Holdings, Inc | Windstream Communications | Little Rock | AR | LP
Winning Technologies Inc |  | O'Fallon | MO | SP
Women Veterans Business Solutions LLC | CBS Consulting | Lanham | MD | SG
Workforce Opportunity Services | Workforce Outsource Services, Inc | New York | NY | MP
Worldwide Counter Threat Solutions, LLC |  | Fredericksburg | VA | SG
WPS Labor, LLC |  | Rogers | AR | SG
ZamCo Directional Drilling LLC |  | Houston | TX | SG

Dated: November 29, 2021.
James D. Rodriguez,
Principal Deputy Assistant Secretary,Veterans' Employment and Training Service.

[FR Doc. 2021-26344 Filed 12-3-21; 8:45 am]

BILLING CODE 4510-79-P